DEPARTMENT OF THE INTERIOR

National Park Service

[9919-726-252Z]

Revised Descriptions of Park, Preserve and Wilderness Boundaries, Gates of the Arctic National Park and Preserve

AGENCY: National Park Service, Interior.

ACTION: Notice of Revised Boundary Descriptions.

SUMMARY: This notice sets out the revised legal descriptions of the boundaries of an expanded Gates of the Arctic National Park and a revised Gates of the Arctic Wilderness. For the sake of completeness this notice also sets out the unrevised description of the boundary of an unchanged Gates of the Arctic National Preserve.

FOR FURTHER INFORMATION CONTACT: National Park Service, Chief, Land Resources Program Center, Alaska Region, 240 W. 5th Avenue, Anchorage, Alaska 99501, (907) 644-3426.

ADDRESSES: The map of the Gates of the Arctic National Park and Wilderness is available for viewing at the National Park Service offices in Anchorage at 240 West 5th Avenue, Anchorage, Alaska 99501, and in Fairbanks at 4175 Geist Road, Fairbanks, Alaska 99709.

SUPPLEMENTARY INFORMATION: Gates of the Arctic National Park and Preserve and Wilderness were established on December 2, 1980 by the Alaska National Interest Lands Conservation Act. The boundaries of the Park, Preserve and Wilderness were published in the Federal Register on September 30, 1992.

This notice publishes two sets of boundary changes:

(1) The external boundaries of Gates of the Arctic National Park, Unit Number 1, and Gates of the Arctic Wilderness, Unit Number 1, as published in the Federal Register at 57 FR 45186-88 and 45190-94 September 30, 1992, are herein updated by the addition of the lands and waters described in “Gates of the Arctic National Park and Preserve, Alaska; Addition of Kurupa Lake and Adjoining Lands to the Park”, published in 45 FR 35041, August 12,1982, and as corrected under “National Park Service, Gates of the Arctic National Park and Preserve, Alaska; Addition of Kurupa Lake and Adjoining Lands to the Park”, 47 FR 42181, September 24, 1982, with the additional lands being a part of the Gates of the Arctic National Park. The boundary change that resulted from the “Addition of Kurupa Lake and Adjoining Lands to the Park” was not included in the legal description published in the Federal Register on September 30, 1992, because that legal description was required by Section 103(b) of the Alaska National Interest Lands Conservation Act (Pub. L. 96-487, 94 Stat. 2371), to describe solely the changes in land management status effected by that Act. The “Addition of Kurupa Lake and Adjoining Lands to the Park” occurred after passage of that Act.

(2) The external boundaries of Gates of the Arctic Wilderness, Unit Numbers 1 and 3, were amended by Section 302 of the Omnibus Parks and Public Lands Management Act of 1996 (Pub. L. 104-333, 110 Stat. 4093). The amended wilderness boundaries are depicted on a map titled “Wilderness Actions”, map number 185/80,040, dated April 1994, available at the National Park Service offices in Anchorage and Fairbanks, Alaska.

The remainder of this notice is organized into the following sections:

I. Units within Gates of the Arctic National Park and Preserve.

II. Units of the National Wilderness Preservation System within Gates of the Arctic National Park.

In the following legal descriptions the symbol ‸ identifies the paragraphs affected by the revised park boundary descriptions.

I. Units Within Gates of the Arctic National Park and Preserve

Gates of the Arctic National Park

The complete revised description of the external boundary for Gates of the Arctic National Park, incorporating the addition of Kurupa Lake and adjoining lands, described in its entirety, is as follows:

(1) Unit Number 1

Beginning at the corner of sections 19, 24, 25 and 30, T. 20 N., Rs. 18 and 19 E., Kateel River Meridian;

Thence easterly, between sections 19 and 30, 20 and 29, 21 and 28, 22 and 27, along a common boundary with Gates of the Arctic National Preserve (Unit Number 1), to the summit of a ridge located in sections 22 and 27, T. 20 N., R. 19 E., Kateel River Meridian, approximate elevation 4,000 feet;

Thence southeasterly, northeasterly, easterly and southeasterly, along the crest of a ridge, to a high point on the ridge located in the westerly portion of section 5, T. 19 N., R. 20 E., Kateel River Meridian, approximate elevation 2,900 feet;

Thence on an approximate forward bearing of S. 14° E., to the summit of a mountain located in section 17, T. 19 N., R. 20 E., Kateel River Meridian, approximate elevation 2,577 feet;

Thence on an approximate forward bearing of S. 14° E., to the corner of sections 20, 21, 28 and 29, T. 19 N., R. 20 E., Kateel River Meridian;

Thence on an approximate forward bearing of east to a point on the left bank of the Kobuk River at the center of the confluence of the outlet stream from Walker Lake with the Kobuk River, in section 19, T. 19 N., R. 21 E., Kateel River Meridian;

Thence northeasterly, along the left bank of the Kobuk River and Kichaiakaka Creek, to a point between sections 1 and 36, Tps. 19 and 20 N., R. 22 E., Kateel River Meridian;

Thence easterly, between Tps. 19 and 20 N., to the corner of Tps. 19 and 20 N., Rs. 22 and 23 E., Kateel River Meridian;

Thence easterly, departing from the common boundary with Gates of the Arctic National Preserve (Unit Number 1), between Tps. 19 and 20 N., to the corner of sections 3, 4, 33 and 34, Tps. 19 and 20 N., R. 23 E., Kateel River Meridian;

Thence northerly, between sections 33 and 34, 27 and 28, 21 and 22, 15 and 16, 9 and 10, 3 and 4, to the north corner of sections 3 and 4, T. 20 N., R. 23 E., Kateel River Meridian;

Thence easterly, along the Fifth Standard Parallel North, to the south corner of T. 21 N., Rs. 23 and 24 E., Kateel River Meridian;

Thence northerly, between Rs. 23 and 24 E., to the corner of Tps. 21 and 22 N., Rs. 23 and 24 E., Kateel River Meridian;

Thence easterly, between Tps. 21 and 22 N., to the corner of sections 3, 4, 33 and 34, Tps. 21 and 22 N., R. 25 E., Kateel River Meridian;

Thence northerly, between sections 33 and 34, 27 and 28, 21 and 22, 15 and 16, 9 and 10, 3 and 4, to the corner of sections 3, 4, 33 and 34, Tps. 22 and 23 N., R. 25 E., Kateel River Meridian;

Thence easterly, between Tps. 22 and 23 N., to the east corner of Tps. 22 and 23 N., R. 26 E., on the boundary of the Kateel River Meridian;

Thence southerly, between Kateel River and Fairbanks Meridians, to the west corner of sections 18 and 19, T. 29 N., R. 24 W., Fairbanks Meridian;

Thence easterly, between sections 18 and 19, 17 and 20, 16 and 21, to the corner of sections 15, 16, 21 and 22, T. 29 N., R. 24 W., Fairbanks Meridian;

Thence northerly, between sections 15 and 16, 9 and 10, 3 and 4, 33 and 34, 27 and 28, 21 and 22, 15 and 16, 9 and 10, 3 and 4, to the corner of sections 3, 4, 33 and 34, Tps. 30 and 31 N., R. 24 W., Fairbanks Meridian;

Thence westerly, between Tps. 30 and 31 N., to the west corner of Tps. 30 and 31 N., R. 24 W., on the boundary of the Fairbanks Meridian;

Thence northerly, between Fairbanks and Kateel River Meridians, to the west corner of Tps. 31 and 32 N., R. 24 W., Fairbanks Meridian;

Thence easterly, between Tps. 31 and 32 N., to the corner of Tps. 31 and 32 N., Rs. 18 and 19 W., Fairbanks Meridian;

Thence northerly, between Rs. 18 and 19 W., to the north corner of T. 32 N., Rs. 18 and 19 W., Fairbanks Meridian;

Thence easterly, along the Eighth Standard Parallel North, to the north corner of T. 32 N., Rs. 17 and 18 W., Fairbanks Meridian;

Thence southerly, between Rs. 17 and 18 W., to the corner of Tps. 31 and 32 N., Rs. 17 and 18 W., Fairbanks Meridian;

Thence easterly, between Tps. 31 and 32 N., to the corner of Tps. 31 and 32 N., Rs. 16 and 17 W., Fairbanks Meridian;

Thence southerly, between Rs. 16 and 17 W., to the corner of Tps. 29 and 30 N., Rs. 16 and 17 W., Fairbanks Meridian;

Thence easterly, between Tps. 29 and 30 N., to the corner of Tps. 29 and 30 N., Rs. 15 and 16 W., Fairbanks Meridian;

Thence southerly, between Rs. 15 and 16 W., to the south corner of T. 29 N., Rs. 15 and 16 W., Fairbanks Meridian;

Thence westerly, along the Seventh Standard Parallel North, to the north corner of T. 28 N., Rs. 16 and 17 W., Fairbanks Meridian;

Thence southerly, between Rs. 16 and 17 W., to the meander corner of sections 31 and 36 at the line of mean high water on the right bank of the most northerly interconnecting waterway of the Koyukuk River, T. 26 N., Rs. 16 and 17 W., Fairbanks Meridian;

Thence northeasterly, along the line of mean high water on the right bank of the most northerly interconnecting waterways of the Middle Fork of the Koyukuk River, closing the mouth of the North Fork Koyukuk River, to the meander corner of sections 13 and 14, T. 26 N., R. 14 W., Fairbanks Meridian;

Thence northerly, between sections 13 and 14, to the north 1/16 section corner of sections 13 and 14, T. 26 N., R. 14 W., Fairbanks Meridian;

Thence easterly, along the east and west centerline of the northwest 1/4 of section 13, to the northwest 1/16 section corner of section 13, T. 26 N., R. 14 W., Fairbanks Meridian;

Thence northerly, along the north and south centerlines of the northwest 1/4 of section 13, and the southwest 1/4 of section 12, to the center-west 1/16 section corner of section 12, T. 26 N., R. 14 W., Fairbanks Meridian;

Thence easterly, on the east and west centerline of section 12, to the center 1/4 section corner of section 12, T. 26 N., R. 14 W., Fairbanks Meridian;

Thence northerly, along the north and south centerlines of sections 12, 1 and 36, to the 1/4 section corner of sections 25 and 36, T. 27 N., R. 14 W., Fairbanks Meridian;

Thence easterly, between sections 25 and 36, to the corner of sections 25, 30, 31 and 36, T. 27 N., Rs. 13 and 14 W., Fairbanks Meridian;

Thence northerly, between Rs. 13 and 14 W., to the corner of sections 19, 24, 25 and 30, T. 27 N., Rs. 13 and 14 W., Fairbanks Meridian;

Thence easterly, between sections 19 and 30, to the corner of sections 19, 20, 29 and 30, T. 27 N., R. 13 W., Fairbanks Meridian;

Thence on an approximate forward bearing of N. 30° E., to the summit of a low point on Twelvemile Mountain located in the southwest portion of section 20, T. 27 N., R. 13 W., Fairbanks Meridian, approximate elevation 2,200 feet;

Thence on an approximate forward bearing of N. 9° E., to a summit of Twelvemile Mountain located in the westerly portion of section 20, T. 27 N., R. 13 W., Fairbanks Meridian, approximate elevation 2,950 feet;

Thence on an approximate forward bearing of N. 3° E., to a summit of Twelvemile Mountain located in the northwesterly portion of section 20, T. 27 N., R. 13 W., Fairbanks Meridian, approximate elevation 3,100 feet;

Thence on an approximate forward bearing of N. 60° E., to the summit of Twelvemile Mountain located in the northerly portion of section 20, T. 27 N., R. 13 W., Fairbanks Meridian, approximate elevation 3,180 feet;

Thence on an approximate forward bearing of N. 36° E., to a summit of Twelvemile Mountain located in the southeasterly portion of section 17, T. 27 N., R. 13 W., Fairbanks Meridian, approximate elevation 3,100 feet;

Thence on an approximate forward bearing of N. 6° E., to the summit of a low point on Twelvemile Mountain located in the easterly portion of section 17, T. 27 N., R. 13 W., Fairbanks Meridian, approximate elevation 2,600 feet;

Thence on an approximate forward bearing of N. 48° W., to the center-north 1/16 section corner of section 17, T. 27 N., R. 13 W., Fairbanks Meridian;

Thence northerly, on the north and south centerline of section 17, to the ¼ section corner of sections 8 and 17, T. 27 N., R. 13 W., Fairbanks Meridian;

Thence westerly, between sections 8 and 17, 7 and 18, 12 and 13, to the corner of sections 11, 12, 13 and 14, T. 27 N., R. 14 W., Fairbanks Meridian;

Thence northerly, between sections 11 and 12, to the 1/4 section corner of sections 11 and 12, T. 27 N., R. 14 W., Fairbanks Meridian;

Thence on an approximate forward bearing of N. 25° W., to the summit of a mountain located in the southerly portion of section 2, T. 27 N., R. 14 W., Fairbanks Meridian, approximate elevation 3,125 feet;

Thence northerly and northeasterly, along the crest of a ridge between the drainages of the North and Middle Forks of the Koyukuk River, to the summit of a mountain located in section 8, T. 30 N., R. 12 W., Fairbanks Meridian, approximate elevation 3,150 feet;

Thence on an approximate forward bearing of N. 27° E., to the 1/4 section corner of sections 5 and 8, T. 30 N., R. 12 W., Fairbanks Meridian;

Thence northerly, on the north and south centerlines of sections 5 and 32, to the center 1/4 section corner of section 32, T. 31 N., R. 12 W., Fairbanks Meridian;

Thence on an approximate forward bearing of N. 16° E., to the summit of a mountain located in the southerly portion of section 29, T. 31 N., R. 12 W., Fairbanks Meridian, approximate elevation 3,020 feet;

Thence northeasterly, along the crest of a ridge between the drainages of Washington Creek, Canyon Creek, Glacier River and the middle Fork of the Koyukuk River, to the summit of a mountain located in the southerly portion of section 2, T. 31 N., R. 12 W., Fairbanks Meridian, approximate elevation 3,150 feet;

Thence on an approximate forward bearing of S. 69° E., to the junction of Hammond River and Canyon Creek located in the easterly portion of section 12, T. 31 N., R. 12 W., Fairbanks Meridian;

Thence on an approximate forward bearing of S. 82° E., to the summit of a mountain located in the easterly portion of section 7, T. 31 N., R. 11 W., Fairbanks Meridian, approximate elevation 2,738 feet;

Thence southeasterly and northerly, along the crest of a ridge, to the summit of a mountain located in the northerly portion of section 11, T. 31 N., R. 11 W., Fairbanks Meridian, approximate elevation 3,065 feet;

Thence on an approximate forward bearing of N. 32° E., to the summit of a mountain located in section 36, T. 32 N., R. 11 W., Fairbanks Meridian, approximate elevation 3,033 feet;

Thence northerly, along the crest of a ridge between the drainages of Vi Creek, Hammond River, Kalhabuk Creek and the Middle Fork of the Koyukuk River, to the northerly point of the crest of a ridge located in section 5, T. 33 N., R. 10 W., Fairbanks Meridian, approximate elevation 4,100 feet;

Thence on an approximate forward bearing of N. 2° W., on a line passing at midpoint between two lakes in section 32, to the crest of a ridge located near the center of section 29, T. 34 N., R. 10 W., Fairbanks Meridian, approximate elevation 3,200 feet;

Thence northwesterly, northerly and northeasterly along the crest of a ridge between drainages of Dietrich and Hammond Rivers, to the summit of a mountain located in the northwesterly portion of section 31, T. 35 N., R. 10 W., Fairbanks Meridian, approximate elevation 3,110 feet;

Thence on an approximate forward bearing of N. 9° E., to the summit of a mountain located in sections 18 and 19, T. 35 N., R. 10 W., Fairbanks Meridian, approximate elevation 4,010 feet;

Thence northerly, along the crest of a ridge between the Dietrich River drainage and Big Jim and Trembley Creeks, to the summit of a mountain located in the southwesterly portion of section 29, T. 36 N., R. 10 W., Fairbanks Meridian, approximate elevation 4,130 feet;

Thence on an approximate forward bearing of N. 8° E., to the summit of a mountain located near the center of section 17, T. 36 N., R. 10 W., Fairbanks Meridian, approximate elevation 4,230 feet;

Thence northerly, along the crest of a ridge between the drainages of Dietrich River and Kuyuktuvuk Creek, to a point of intersection with the Continental Divide, located near the center of section 31, T. 15 S., R. 10 E., Umiat Meridian, approximate elevation 6,000 feet;

Thence southwesterly, along the Continental Divide, along a common boundary with Gates of the Arctic National Preserve (Unit Number 2), to a point on a ridge where the Continental Divide bears southerly, located in the northerly portion of section 2, T. 16 S., R. 9 E., Umiat Meridian, approximate elevation 6,300;

Thence northwesterly, along the crest of a ridge, to a point between sections 12 and 13, T. 15 S., R. 8 E., Umiat Meridian, approximate elevation 4,650 feet;

Thence on an approximate forward bearing of N. 65° W., to the most southerly point on the shore of an unnamed lake located in the Oolah Valley in section 11, T. 15 S., R. 8 E., Umiat Meridian;

Thence on an approximate forward bearing of N. 59° W., to the summit of a mountain located in section 4, T. 15 S., R. 8 E., Umiat Meridian, approximate elevation 6,323 feet;

Thence northwesterly, along the crest of a ridge between the drainages of Itkillik and Nanushuk Rivers, to the summit of a mountain located near the center of section 26, T. 14 S., R. 6 E., Umiat Meridian, approximate elevation 7,118 feet;

Thence on an approximate forward bearing of N. 70° W., to an easterly summit of Marshmallow Mountain located in the easterly portion of section 20, T. 14 S., R. 6 E., Umiat Meridian, approximate elevation 6,570 feet;

Thence westerly, along the crest of Marshmallow Mountain, to a westerly summit of Marshmallow Mountain located in the northerly portion of section 24, T. 14 S., R. 5 E., Umiat Meridian, approximate elevation 6,972 feet;

Thence on an approximate forward bearing of S. 71° W., to the easterly point of the summit of a mountain located in the northerly portion of section 28, T. 14 S., R. 5 E., Umiat Meridian, approximate elevation 6,500 feet;

Thence southwesterly, northwesterly, and northeasterly, along the crest of a ridge between the Alapah Creek, Anaktuvuk River, Itikmalakpak Creek and the Kayak Creek drainages and northwesterly on a spur ridge, to a point between sections 1 and 36, Tps. 13 and 14 S., R. 4 E., Umiat Meridian;

Thence westerly, departing from the common boundary with Gates of the Arctic National Preserve (Unit Number 2), between Tps. 13 and 14 S., to the corner of Tps. 13 and 14 S., Rs. 1 and 2 E., Umiat Meridian;

Thence northerly, between Rs. 1 and 2 E., to the corner of sections 25, 30, 31 and 36, T. 13 S., Rs. 1 and 2 E., Umiat Meridian;

Thence westerly, between sections 25 and 36, 26 and 35, 27 and 34, 28 and 33, 29 and 32, 30 and 31, 25 and 36, 26 and 35, 27 and 34, 28 and 33, 29 and 32, 30 and 31, to the corner of sections 25, 30, 31 and 36, T. 13 S., Rs. 1 and 2 W., Umiat Meridian;

Thence northerly, between Rs. 1 and 2 W., to the north corner of T. 13 S., Rs. 1 and 2 W., Umiat Meridian;

Thence westerly, along the Third Standard Parallel South, to the south corner of T. 12 S., Rs. 1 and 2 W., Umiat Meridian;

Thence northerly, between Rs. 1 and 2 W., to the corner of sections 13, 18, 19 and 24, T. 12 S., Rs. 1 and 2 W., Umiat Meridian;

Thence westerly, between sections 13 and 24, 14 and 23, 15 and 22, 16 and 21, 17 and 20, 18 and 19, to the corner of sections 13, 18, 19 and 24, T. 12 S., Rs. 2 and 3 W., Umiat Meridian;

Thence southerly, between Rs. 2 and 3 W., to the corner of sections 25, 30, 31 and 36, T. 12 S., Rs. 2 and 3 W., Umiat Meridian;

Thence westerly, between sections 25 and 36, to the corner of sections 25, 26, 35 and 36, T. 12 S., R. 3 W., Umiat Meridian;

Thence southerly, between sections 35 and 36 to the south corner of sections 35 and 36, T. 12 S., R. 3 W., Umiat Meridian;

Thence westerly, along the Third Standard Parallel South, to the south corner of sections 34 and 35, T. 12 S., R. 4 W., Umiat Meridian;

Thence northerly, between sections 34 and 35, 26 and 27, 22 and 23, to the corner of sections 14, 15, 22 and 23, T. 12 S., R. 4 W., Umiat Meridian;

Thence westerly, between sections 15 and 22, 16 and 21, 17 and 20, 18 and 19, to the corner of sections 13, 18, 19 and 24, T. 12 S., Rs. 4 and 5 W., Umiat Meridian;

Thence northerly, between Rs. 4 and 5 W., to the corner of sections 13, 18, 19 and 24, T. 11 S., Rs. 4 and 5 W., Umiat Meridian;

Thence westerly, between sections 13 and 24, 14 and 23, 15 and 22, 16 and 21, 17 and 20, 18 and 19, 13 and 24, 14 and 23, 15 and 22, 16 and 21, 17 and 20, 18 and 19, 13 and 24, 14 and 23, 15 and 22, to the corner of sections 15, 16, 21 and 22, T. 11 S., R. 7 W., Umiat Meridian;

Thence southerly, between sections 21 and 22, 27 and 28, 33 and 34, to the corner of sections 3, 4, 33 and 34, Tps. 11 and 12 S., R. 7 W., Umiat Meridian;

Thence westerly, between Tps. 11 and 12 S., to the corner of Tps. 11 and 12 S., Rs. 7 and 8 W., Umiat Meridian;

Thence southerly, between Rs. 7 and 8 W., to the corner of sections 19, 24, 25 and 30, T. 12 S., Rs. 7 and 8 W., Umiat Meridian;

Thence westerly, between sections 24 and 25, 23 and 26, 22 and 27, 21 and 28, 20 and 29, 19 and 30, 24 and 25, 23 and 26, 22 and 27, 21 and 28, 20 and 29, 19 and 30, 24 and 25, 23 and 26, 22 and 27, 21 and 28, 20 and 29, 19 and 30, to the corner of sections 19, 24, 25 and 30, T. 12 S., Rs 10 and 11 W., Umiat Meridian;

Thence southerly, between Rs. 10 and 11 W., to the south corner of T. 12 S., Rs. 10 and 11 W., on the boundary of the Umiat Meridian;

Thence westerly, between the Umiat and Kateel River Meridians, to the north corner of T. 34 N., Rs. 18 and 19 E., Kateel River Meridian;

‸ Thence southerly, between Rs. 18 and 19 E., to the ¼ section corner of sections 7 and 12, T. 34 N., Rs. 18 and 19 E., Kateel River Meridian;

‸ Thence westerly, on the east and west centerline of section 12, to the center-west 1/16 section corner of section 12, T. 34 N., R. 18 E., Kateel River Meridian;

‸ Thence northerly, on the north and south centerline of the northwest ¼ of section 12, to the north corner of lots 3 and 4 of section 12, T. 34 N., R. 18 E., on the boundary of the Kateel River Meridian;

‸ Thence westerly, between Umiat and Kateel River Meridians, to the south corner of sections 25 and 26, T. 12 S., R. 12 W., Umiat Meridian;

‸ Thence northerly, between sections 25 and 26, to the corner of sections 23, 24, 25 and 26, T. 12 S., R. 12 W., Umiat Meridian;

‸ Thence westerly, between sections 23 and 26, to the ¼ section corner of sections 23 and 26, T. 12 S., R. 12 W., Umiat Meridian;

‸ Thence northerly, on the north and south centerline of section 23, to the center ¼ section corner of section 23, T. 12 S., R. 12 W., Umiat Meridian;

‸ Thence westerly, on the east and west centerlines of sections 23 and 22, to the ¼ section corner of sections 21 and 22, T. 12 S., R. 12 W., Umiat Meridian;

‸ Thence southerly, between sections 21 and 22, 27 and 28, to the south corner of sections 27 and 28, T. 12 S., R. 12 W., on the boundary of the Umiat Meridian;

‸ Thence westerly, between the Kateel River and Umiat Meridians, to the north corner of lots 2 and 3 of section 9, T. 34 N., R. 18 N., Kateel River Meridian;

‸ Thence southerly, on the north and south centerline of section 9, to the center ¼ section corner of section 9, T. 34 N., R. 18 E., Kateel River Meridian;

‸ Thence easterly, on the east and west centerline of section 9, to the ¼ section corner of sections 9 and 10, T. 34 N., R. 18 E., Kateel River Meridian;

‸ Thence southerly, between sections 9 and 10, 15 and 16, to the ¼ section corner of sections 15 and 16, T. 34 N., R. 18 E., Kateel River Meridian;

‸ Thence easterly, on the east and west centerline of section 15, to the center ¼ section corner of section 15, T. 34 N., R. 18 E., Kateel River Meridian;

‸ Thence southerly, on the north and south centerline of section 15, to the ¼ corner of sections 15 and 22, T. 34 N., R. 18 E., Kateel River Meridian;

‸ Thence easterly, between sections 15 and 22, 14 and 23, to the ¼ section corner of sections 14 and 23, T. 34 N., R. 18 E., Kateel River Meridian;

‸ Thence southerly, on the north and south centerline of section 23, to the ¼ section corner of sections 23 and 26, T. 34 N., R. 18 E., Kateel River Meridian;

‸ Thence westerly, between sections 23 and 26, 22 and 27, 21 and 28, 20 and 29, 19 and 30, 24 and 25, 23 and 26, 22 and 27, 21 and 28, 20 and 29, 19 and 30, 24 and 25, 23 and 26, 22 and 27, 21 and 28, 20 and 29, 19 and 30, to the corner of sections 19, 24, 25 and 30, T. 34 N., Rs. 15 and 16 E., Kateel River Meridian;

Thence northerly, between Rs. 15 and 16 E., to the north corner of T. 34 N., Rs. 15 and 16 E., on the boundary of the Kateel River Meridian;

Thence westerly, between the Kateel River and Umiat Meridians, to a point of intersection between the western portion of section 10, T. 34 N., R. 14 E., Kateel River Meridian and section 27, T. 12 S., R. 16 W., Umiat Meridian, with a line projected due north of a peak located in the western portion of section 26, T. 30 N., R. 14 E., Kateel River Meridian, approximate elevation 4,640 feet;

Thence due south, to a point between sections 2 and 11, T. 30 N., R. 14 E., Kateel River Meridian;

Thence continuing due south, along a common boundary with Noatak National Preserve (Nigu River Addition), to the east and west centerline of section 14, T. 30 N., R. 14 E., Kateel River Meridian;

Thence continuing due south, departing from the common boundary with Noatak National Preserve (Nigu River Addition), to a peak located along the crest of a divide between the drainages of the Nigu and Noatak Rivers in the western portion of section 26, T. 30 N., R. 14 E., Kateel River Meridian, approximate elevation 4,640 feet;

Thence westerly, northerly and northwesterly, along the crest of a divide between the drainages of the Nigu and Noatak Rivers to a summit of a mountain located on a ridge at the junction with a spur ridge located in section 3, T. 30 N., R. 13 E., Kateel River Meridian, approximate elevation 3,250 feet;

Thence southwesterly and westerly, along the crest of a ridge between the drainages of Midas Creek and Mountain Creek, along a common boundary with Noatak National Preserve, to the summit of a mountain located in section 21, T. 30 N., R. 12 E., Kateel River Meridian, approximate elevation 4,021 feet;

Thence on an approximate forward bearing of S. 87° W., to the summit of a hill located in section 24, T. 30 N., R. 11 E., Kateel River Meridian, approximate elevation 3,473 feet;

Thence northwesterly, along the crest of a ridge to the summit of a mountain located in sections 14 and 15, T. 30 N., R. 11 E., Kateel River Meridian, approximate elevation 4,100 feet;

Thence on an approximate forward bearing of S. 28° W., to the summit of a mountain located in section 22, T. 30 N., R. 11 E., Kateel River Meridian, approximate elevation 3,202 feet;

Thence southwesterly, along the crest of a ridge between Douglas Creek and a tributary of the Noatak River, to the summit of a mountain, located in sections 12 and 13, T. 29 N., R. 10 E., Kateel River Meridian, approximate elevation 3,657 feet;

Thence due south, to a point on the right bank of Douglas Creek located in section 24, T. 29 N., R. 10 E., Kateel River Meridian;

Thence southerly, along the right bank of Douglas Creek, to a point on the right bank of Douglas Creek at the junction of the Noatak River and Douglas Creek located in the northern portion of section 2, T. 28 N., R. 10 E., Kateel River Meridian;

Thence on an approximate forward bearing of S. 24° W., to the summit of a mountain located in section 22, T. 28 N., R. 10 E., Kateel River Meridian, approximate elevation 3,439 feet;

Thence on an approximate forward bearing of S. 51° W., to the summit of a small mountain located in sections 28 and 29, T. 28 N., R. 10 E., Kateel River Meridian, approximate elevation 2,441 feet;

Thence easterly, southerly and westerly, along the divide between the drainages of Kavachurak Creek and Tunukuchiak Creek and Ambler River, to the summit of a mountain located in section 22, T. 26 N., R. 9 E., Kateel River Meridian, approximate elevation 4,298 feet;

Thence northerly, along the crest of the spur ridge to the summit of a mountain located in section 15, T. 26 N., R. 9 E., Kateel River Meridian, approximate elevation 3,980 feet;

Thence on an approximate forward bearing of N. 37° W., to the summit of a mountain located in section 5, T. 26 N., R. 9 E., Kateel River Meridian, approximate elevation 4,625 feet;

Thence southwesterly, along the divide between the drainages of the Ambler and Noatak Rivers, to the summit of a mountain located in sections 23 and 24, T. 26 N., R. 8 E., Kateel River Meridian, approximate elevation 4,508 feet;

Thence on an approximate forward bearing of S. 11° W., to the summit of a mountain located in section 35, T. 26 N., R. 8 E., Kateel River Meridian, approximate elevation 4,720 feet;

Thence easterly, southerly, easterly and southerly along the divide between the Ambler and Imelyak Rivers to the summit of a ridge located in the southern half of section 19, T. 25 N., R. 9 E., Kateel River Meridian, approximate elevation 3,600 feet;

Thence southerly, departing from the common boundary with Noatak National Preserve, along the divide between tributaries of the Ambler River, to a point between sections 9 and 16, T. 24 N., R. 9 E., Kateel River Meridian, approximate elevation 2,800 feet;

Thence easterly, between sections 9 and 16, 10 and 15, 11 and 14, to the crest of a ridge between sections 11 and 14, T. 24 N., R. 9 E., Kateel River Meridian, approximate elevation 2,600 feet;

Thence northeasterly, along the crest of a ridge between the drainages of tributaries of the Ambler River to the summit of a mountain located in the northwesterly portion of section 4, T. 24 N., R. 10 E., Kateel River Meridian, approximate elevation 3,609 feet;

Thence on an approximate forward bearing of east, to the summit of a mountain located in the northwesterly portion of section 2, T. 24 N., R. 10 E., Kateel River Meridian, approximate elevation 4,499 feet;

Thence northeasterly, along the crest of a ridge between the drainages of Ulaneak Creek, Ambler and Ipnelivik Rivers, to the summit of a mountain located in section 27, T. 25 N., R. 11 E., Kateel River Meridian, approximate elevation 5,040 feet;

Thence on an approximate forward bearing of S. 28° E., to the summit of a mountain located in sections 34 and 35, T. 25 N., R. 11 E., Kateel River Meridian, approximate elevation 4,600 feet;

Thence southerly, along the crest of a ridge between the drainages of Ipnelivik River and Ulaneak Creek, to the summit of a mountain located in sections 25 and 26, T. 24 N., R. 11 E., Kateel River Meridian, approximate elevation 4,600 feet;

Thence on an approximate forward bearing of S. 60° E., to the summit of a mountain located in section 31, T. 24 N., R. 12 E., Kateel River Meridian, approximate elevation 5,076 feet;

Thence southerly, easterly and northeasterly, along the crest of a ridge, to the summit of a mountain between sections 5 and 32, Tps. 23 and 24 N., R. 12 E., Kateel River Meridian, approximate elevation 4,517 feet;

Thence easterly, between Tps. 23 and 24 N., to the summit of a mountain between sections 4 and 33, Tps. 23 and 24 N., R. 12 E., Kateel River Meridian, approximate elevation 4,926 feet;

Thence southerly, along the crest of a ridge between the drainages of Kogoluktuk River, to the summit of a mountain located in sections 34 and 35, T. 23 N., R. 12 E., Kateel River Meridian, approximate elevation 4,160 feet;

Thence on an approximate forward bearing of S. 20° E., to the summit of a mountain located in section 11, T. 22 N., R. 12 E., Kateel River Meridian, approximate elevation 3,292 feet;

Thence southerly, easterly and southeasterly, along the crest of a ridge between the drainages of Kogoluktuk River and Ivik Creek, to a point between sections 2 and 35, Tps. 21 and 22 N., R. 13 E., Kateel River Meridian;

Thence easterly, between Tps. 21 and 22 N., to the corner of Tps. 21 and 22 N., Rs. 18 and 19 E., Kateel River Meridian;

Thence southerly, between Rs. 18 and 19 E., to the south corner of T. 21 N., Rs. 18 and 19 E., Kateel River Meridian;

Thence westerly, along the Fifth Standard Parallel North, to the north corner of T. 20 N., Rs. 18 and 19 E., Kateel River Meridian;

Thence southerly, between Rs. 18 and 19 E., to the corner of sections 19, 24, 25 and 30, T. 20 N., Rs. 18 and 19 E., Kateel River Meridian, the place of beginning.

Unit Number 2

Beginning at the corner of sections 13, 18, 19 and 24, T. 11 S., Rs. 2 and 3 W., Umiat Meridian;

Thence northerly, between Rs. 2 and 3 W., to the corner of Tps. 9 and 10 S., Rs. 2 and 3 W., Umiat Meridian;

Thence westerly, between Tps. 9 and 10 S., to the corner of Tps. 9 and 10 S., Rs. 3 and 4 W., Umiat Meridian;

Thence northerly, between Rs. 3 and 4 W., to the corner of sections 13, 18, 19 and 24, T. 9 S., Rs. 3 and 4 W., Umiat Meridian;

Thence westerly, between sections 13 and 24, 14 and 23, 15 and 22, 16 and 21, 17 and 20, 18 and 19, 13 and 24, 14 and 23, 15 and 22, to the corner of sections 15, 16, 21 and 22, T. 9 S., R. 5 W., Umiat Meridian;

Thence southerly, between sections 21 and 22, 27 and 28, 33 and 34, 3 and 4, 9 and 10, 15 and 16, to the corner of sections 15, 16, 21 and 22, T. 10 S., R. 5 W., Umiat Meridian;

Thence easterly, between sections 15 and 22, 14 and 23, 13 and 24, to the corner of sections 13, 18, 19 and 24, T. 10 S., Rs. 4 and 5 W., Umiat Meridian;

Thence southerly, between Rs. 4 and 5 W., to the corner of Tps. 10 and 11 S., Rs. 4 and 5 W., Umiat Meridian;

Thence easterly, between Tps. 10 and 11 S., to the corner of sections 4, 5, 32 and 33, Tps. 10 and 11 S., R. 4 W., Umiat Meridian;

Thence southerly, between sections 4 and 5, 8 and 9, 16 and 17, to the corner of sections 16, 17, 20 and 21, T. 11 S., R. 4 W., Umiat Meridian;

Thence easterly, between sections 16 and 21, 15 and 22, 14 and 23, 13 and 24, 18 and 19, 17 and 20, 16 and 21, 15 and 22, 14 and 23, 13 and 24, to the corner of sections 13, 18, 19 and 24, T. 11 S., Rs. 2 and 3 W., Umiat Meridian, the place of beginning.

Gates of the Arctic National Preserve

The complete description of the external boundary for Gates of the Arctic National Preserve is provided below and is identical to the 1992 published description:

Unit Number 1

Beginning at the corner of sections 19, 24, 25 and 30, T. 20 N., Rs. 18 and 19 E., Kateel River Meridian;

Thence easterly, between sections 19 and 30, 20 and 29, 21 and 28, 22 and 27, along a common boundary with Gates of the Arctic National Park (Unit Number 1), to the summit of a ridge located in sections 22 and 27, T. 20 N., R. 19 E., Kateel River Meridian, approximate elevation 4,000 feet;

Thence southeasterly, northeasterly, easterly and southeasterly along the crest of a ridge, to a high point on a ridge located in the westerly portion of section 5, T. 19 N., R. 20 E., Kateel River Meridian, approximate elevation 2,900 feet;

Thence on a approximate forward bearing of S. 14° E., to the summit of a mountain located in section 17, T. 19 N., R. 20 E., Kateel River Meridian, approximate elevation 2,577 feet;

Thence on an approximate forward bearing of S. 14° E., to the corner of sections 20, 21, 28 and 29, T. 19 N., R. 20 E., Kateel River Meridian;

Thence on an approximate forward bearing of east to a point on the left bank of the Kobuk River at the center of the confluence of the outlet stream from Walker Lake with the Kobuk River, in section 19, T. 19 N., R. 21 E., Kateel River Meridian;

Thence northeasterly, along the left bank of the Kobuk River and Kichaiakaka Creek, to a point between sections 1 and 36, Tps. 19 and 20 N., R. 22 E., Kateel River Meridian;

Thence easterly, between Tps. 19 and 20 N., to the corner of Tps. 19 and 20 N., Rs. 22 and 23 E., Kateel River Meridian;

Thence southerly, departing from the common boundary with Gates of the Arctic National Park (Unit Number 1), between Rs. 22 and 23 E., to the corner of Tps. 17 and 18 N., Rs. 22 and 23 E., Kateel River Meridian;

Thence westerly, between Tps. 17 and 18 N., to the corner of Tps. 17 and 18 N., Rs. 20 and 21 E., Kateel River Meridian;

Thence southerly, between Rs. 20 and 21 E., to the south corner of T. 17 N., Rs. 20 and 21 E., Kateel River Meridian;

Thence westerly, along the Fourth Standard Parallel North, to the north corner of T. 16 N., Rs. 20 and 21 E., Kateel River Meridian;

Thence southerly, between Rs. 20 and 21 E., to the corner of Tps. 14 and 15 N., Rs. 20 and 21 E., Kateel River Meridian;

Thence westerly, between Tps. 14 and 15 N., to the corner of Tps. 14 and 15 N., Rs. 14 and 15 E., Kateel River Meridian;

Thence northerly, between Rs. 14 and 15 E., to the north corner of T. 16 N., Rs. 14 and 15 E., Kateel River Meridian;

Thence westerly, along the Fourth Standard Parallel North, to the south corner of T. 17 N., Rs. 13 and 14 E., Kateel River Meridian;

Thence northerly, between Rs. 13 and 14 E., to the corner of Tps. 17 and 18 N., Rs. 13 and 14 E., Kateel River Meridian;

Thence easterly, between Tps. 17 and 18 N., to the corner of Tps. 17 and 18 N., Rs. 14 and 15 E., Kateel River Meridian;

Thence northerly, between Rs. 14 and 15 E., to the corner of Tps. 18 and 19 N., Rs. 14 and 15 E., Kateel River Meridian;

Thence easterly, between Tps. 18 and 19 N., to the corner of Tps. 18 and 19 N., Rs. 15 and 16 E., Kateel River Meridian;

Thence southerly, between Rs. 15 and 16 E., to the corner of Tps. 17 and 18 N., Rs. 15 and 16 E., Kateel River Meridian;

Thence easterly, between Tps. 17 and 18 N., to the corner of Tps. 17 and 18 N., Rs. 18 and 19 E., Kateel River Meridian;

Thence northerly, between Rs. 18 and 19 E., to the corner of sections 19, 24, 25 and 30, T. 20 N., Rs. 18 and 19 E., Kateel River Meridian, the place of beginning.

Unit Number 2

Beginning at a point on the Continental Divide, at the junction of ridges, located near the center of section 31, T. 15 S., R. 10 E., Umiat Meridian, approximate elevation 6,000 feet;

Thence southwesterly, along the Continental Divide, along a common boundary with Gates of the Arctic National Park (Unit Number 1), to a point on a ridge where the Continental Divide bears southerly, located in the northerly portion of section 2, T. 16 S., R. 9 E., Umiat Meridian, approximate elevation 6,300 feet;

Thence northwesterly, along the crest of a ridge, to a point between sections 12 and 13, T. 15 S., R. 8 E., Umiat Meridian, approximate elevation 4,650 feet;

Thence on an approximate forward bearing of N. 65° W., to the most southerly point on the shore of an unnamed lake located in the Oolah Valley in Section 11, T. 15 S., R. 8 E., Umiat Meridian;

Thence on an approximate forward bearing of N. 59° W., to the summit of a mountain located in section 4, T. 15 S., R. 8 E., Umiat Meridian, approximate elevation 6,323 feet;

Thence northwesterly, along the crest of a ridge between the drainages of Itkillik and Nanushuk Rivers, to the summit of a mountain located near the center of section 26, T. 14 S., R. 6 E., Umiat Meridian, approximate elevation 7,118 feet;

Thence on an approximate forward bearing of N. 70° W., to an easterly summit of Marshmallow Mountain located in the easterly portion of section 20, T. 14 S., R. 6 E., Umiat Meridian, approximate elevation 6,570 feet;

Thence westerly, along the crest of Marshmallow Mountain to a westerly summit of Marshmallow Mountain located in the northerly portion of section 24, T. 14 S., R. 5 E., Umiat Meridian, approximate elevation 6,972 feet;

Thence on an approximate forward bearing of S. 71° W., to the easterly point of the summit of a mountain located in the northerly portion of section 28, T. 14 S., R. 5 E., Umiat Meridian, approximate elevation 6,500 feet;

Thence southwesterly, northwesterly, and northeasterly, along the crest of a ridge between the Alapah Creek, Anaktuvuk River, and Itikmalakpak Creek and the Kayak Creek drainages and northwesterly on a spur ridge, to a point between sections 1 and 36, Tps. 13 and 14 S., R. 4 E., Umiat Meridian;

Thence easterly, departing from the common boundary with Gates of the Arctic National Park (Unit Number 1), between Tps. 13 and 14 S., to the corner of Tps. 13 and 14 S., Rs. 4 and 5 E., Umiat Meridian;

Thence northerly, between Rs. 4 and 5 E., to the corner of sections 13, 18, 19 and 24, T. 13 S., Rs. 4 and 5 E., Umiat Meridian;

Thence easterly, between sections 18 and 19, 17 and 20, to the corner of sections 16, 17, 20 and 21, T. 13 S., R. 5 E., Umiat Meridian;

Thence northerly, between sections 16 and 17, 8 and 9, 4 and 5, to the north corner of sections 4 and 5, T. 13 S., R. 5 E., Umiat Meridian;

Thence easterly, along the Third Standard Parallel South, to the north corner of T. 13 S., Rs. 5 and 6 E., Umiat Meridian;

Thence southerly, between Rs. 5 and 6 E., to the corner of sections 13, 18, 19 and 24, T. 13 S., Rs. 5 and 6 E., Umiat Meridian;

Thence easterly, between sections 18 and 19, 17 and 20, 16 and 21, 15 and 22, 14 and 23, 13 and 24, 18 and 19, 17 and 20, 16 and 21, 15 and 22, 14 and 23, 13 and 24, to the corner of sections 13, 18, 19 and 24, T. 13 S., Rs. 7 and 8 E., Umiat Meridian;

Thence northerly, between Rs. 7 and 8 E., to the north corner of T. 13 S., Rs. 7 and 8 E., Umiat Meridian;

Thence easterly, along the Third Standard Parallel South, to the south corner of T. 12 S., Rs. 8 and 9 E., Umiat Meridian;

Thence northerly, between Rs. 8 and 9 E., to the corner of Tps. 11 and 12 S., Rs. 8 and 9 E., Umiat Meridian;

Thence easterly, between Tps. 11 and 12 S., to a point on the crest of a ridge between sections 6 and 31, Tps. 11 and 12 S., R. 11 E., Umiat Meridian, approximate elevation 4,650 feet;

Thence southerly, along the crest of a ridge between the drainages of Atigun and Itkillik Rivers, to the summit of a mountain located in the southerly portion of section 18, T. 12 S., R. 11 E., Umiat Meridian, approximate elevation 5,156 feet;

Thence on an approximate forward bearing of S. 35° E., to the summit of a mountain located near the center of section 20, T. 12 S., R. 11 E., Umiat Meridian, approximate elevation 4,950 feet;

Thence southeasterly and southwesterly, between the drainages of Atigun and Itkillik Rivers, to the point of intersection with the Continental Divide located at a high point on the ridge in the easterly portion of section 20, T. 15 S., R. 10 E., Umiat Meridian, approximate elevation 6,480 feet;

Thence southwesterly, along the Continental Divide, to a high point on the Continental Divide at the junction of ridges located near the center of section 31, T. 15 S., R. 10 E., Umiat Meridian, approximate elevation 6,000 feet, the place of beginning.

II. Units of the National Wilderness Preservation System Within Gates of the Arctic National Park

Gates of the Arctic Wilderness

The complete amended description of the external boundary for Gates of the Arctic Wilderness, described in its entirety, is as follows:

(1) Unit Number 1

Beginning at the corner of sections 19, 24, 25 and 30, T. 20 N., Rs. 18 and 19 E., Kateel River Meridian;

Thence easterly, between sections 19 and 30, 20 and 29, 21 and 28, 22 and 27, along a common boundary with Gates of the Arctic National Park (Unit Number 1) and National Preserve (Unit Number 1), to the summit of a ridge located in sections 22 and 27, T. 20 N., R. 19 E., Kateel River Meridian, approximate elevation 4,000 feet;

Thence southeasterly, northeasterly, easterly and southeasterly, along the crest of a ridge, to a high point on the ridge located in the westerly portion of section 5, T. 19 N., R. 20 E., Kateel River Meridian, approximate elevation 2,900 feet;

Thence on an approximate forward bearing of S. 14° E., to the summit of a mountain located in section 17, T. 19 N., R. 20 E., Kateel River Meridian, approximate elevation 2,577 feet;

Thence on an approximate forward bearing of S. 14° E., to the corner of sections 20, 21, 28 and 29, T. 19 N., R. 20 E., Kateel River Meridian;

Thence on an approximate forward bearing of east to a point on the left bank of the Kobuk River at the center of the confluence of the outlet stream from Walker Lake with the Kobuk River, in section 19, T. 19 N., R. 21 E., Kateel River Meridian;

Thence northeasterly, along the left bank of the Kobuk River and Kichaiakaka Creek, to a point between sections 1 and 36, Tps. 19 and 20 N., R. 22 E., Kateel River Meridian;

Thence easterly, between Tps. 19 and 20 N., to the corner of Tps. 19 and 20 N., Rs. 22 and 23 E., Kateel River Meridian;

Thence easterly, departing from the common boundary with Gates of the Arctic National Preserve (Unit Number 1) and continuing along the common boundary with the National Park (Unit Number 1), between Tps. 19 and 20 N., to the corner of sections 3, 4, 33 and 34, Tps. 19 and 20 N., R. 23 E., Kateel River Meridian;

Thence northerly, between sections 33 and 34, 27 and 28, 21 and 22, 15 and 16, 9 and 10, 3 and 4, to the north corner of sections 3 and 4, T. 20 N., R. 23 E., Kateel River Meridian;

Thence easterly, along the Fifth Standard Parallel North, to the south corner of T. 21 N., Rs. 23 and 24 E., Kateel River Meridian;

Thence northerly, between Rs. 23 and 24 E., to the corner of Tps. 21 and 22 N., Rs. 23 and 24 E., Kateel River Meridian;

Thence easterly, between Tps. 21 and 22 N., to the corner of sections 3, 4, 33 and 34, Tps. 21 and 22 N., R. 25 E., Kateel River Meridian;

Thence northerly, between sections 33 and 34, 27 and 28, 21 and 22, 15 and 16, 9 and 10, 3 and 4, to the corner of sections 3, 4, 33 and 34, Tps. 22 and 23 N., R. 25 E., Kateel River Meridian;

Thence easterly, between Tps. 22 and 23 N., to the east corner of Tps. 22 and 23 N., R. 26 E., on the boundary of the Kateel River Meridian;

Thence southerly, between Kateel River and Fairbanks Meridians, to the west corner of sections 18 and 19, T. 29 N., R. 24 W., Fairbanks Meridian;

Thence easterly, between sections 18 and 19, 17 and 20, 16 and 21, to the corner of sections 15, 16, 21 and 22, T. 29 N., R. 24 W., Fairbanks Meridian;

Thence northerly, between sections 15 and 16, 9 and 10, 3 and 4, 33 and 34, 27 and 28, 21 and 22, 15 and 16, 9 and 10, 3 and 4, to the corner of sections 3, 4, 33 and 34, Tps. 30 and 31 N., R. 24 W., Fairbanks Meridian;

Thence westerly, between Tps. 30 and 31 N., to the west corner of Tps. 30 and 31 N., R. 24 W., on the boundary of the Fairbanks Meridian;

Thence northerly, between Fairbanks and Kateel River Meridians, to the west corner of Tps. 31 and 32 N., R. 24 W., Fairbanks Meridian;

Thence easterly, between Tps. 31 and 32 N., to the corner of Tps. 31 and 32 N., Rs. 18 and 19 W., Fairbanks Meridian;

Thence northerly, between Rs. 18 and 19 W., to the north corner of T. 32 N., Rs. 18 and 19 W., Fairbanks Meridian;

Thence easterly, along the Eighth Standard Parallel North, to the north corner of T. 32 N., Rs. 17 and 18 W., Fairbanks Meridian;

Thence southerly, between Rs. 17 and 18 W., to the corner of Tps. 31 and 32 N., Rs. 17 and 18 W., Fairbanks Meridian;

Thence easterly, between Tps. 31 and 32 N., to the corner of Tps. 31 and 32 N., Rs. 16 and 17 W., Fairbanks Meridian;

Thence southerly, between Rs. 16 and 17 W., to the corner of Tps. 29 and 30 N., Rs. 16 and 17 W., Fairbanks Meridian;

Thence easterly, between Tps. 29 and 30 N., to the corner of Tps. 29 and 30 N., Rs. 15 and 16 W., Fairbanks Meridian;

Thence southerly, between Rs. 15 and 16 W., to the south corner of T. 29 N., Rs. 15 and 16 W., Fairbanks Meridian;

Thence westerly, along the Seventh Standard Parallel North, to the north corner of T. 28 N., Rs. 16 and 17 W., Fairbanks Meridian;

Thence southerly, between Rs. 16 and 17 W., to the meander corner of sections 31 and 36 at the line of mean high water on the right bank of the most northerly interconnecting waterway of the Koyukuk River, T. 26 N., Rs. 16 and 17 W., Fairbanks Meridian;

Thence northeasterly, along the line of mean high water on the right bank of the most northerly interconnecting waterways of the Middle Fork of the Koyukuk River, closing the mouth of the North Fork Koyukuk River, to the meander corner of sections 13 and 14, T. 26 N., R. 14 W., Fairbanks Meridian;

Thence northerly, between sections 13 and 14, to the north 1/16 section corner of sections 13 and 14, T. 26 N., R. 14 W., Fairbanks Meridian;

Thence easterly, along the east and west centerline of the northwest ¼ of section 13, to the northwest 1/16 section corner of section 13, T. 26 N., R. 14 W., Fairbanks Meridian;

Thence northerly, along the north and south centerlines of the northwest ¼ of section 13, and the southwest ¼ of section 12, to the center-west 1/16 section corner of section 12, T. 26 N., R. 14 W., Fairbanks Meridian;

Thence easterly, on the east and west centerline of section 12, to the center ¼ section corner of section 12, T. 26 N., R. 14 W., Fairbanks Meridian;

Thence northerly, along the north and south centerlines of sections 12, 1 and 36, to the ¼ section corner of sections 25 and 36, T. 27 N., R. 14 W., Fairbanks Meridian;

Thence easterly, between sections 25 and 36, to the corner of sections 25, 30, 31 and 36, T. 27 N., Rs. 13 and 14 W., Fairbanks Meridian;

Thence northerly, between Rs. 13 and 14 W., to the corner of sections 19, 24, 25 and 30, T. 27 N., Rs. 13 and 14 W., Fairbanks Meridian;

Thence easterly, between sections 19 and 30, to the corner of sections 19, 20, 29 and 30, T. 27 N., R. 13 W., Fairbanks Meridian;

Thence on an approximate forward bearing of N. 30° E., to the summit of a low point on Twelvemile Mountain located in the southwest portion of section 20, T. 27 N., R. 13 W., Fairbanks Meridian, approximate elevation 2,200 feet;

Thence on an approximate forward bearing of N. 9° E., to a summit of Twelvemile Mountain located in the westerly portion of section 20, T. 27 N., R. 13 W., Fairbanks Meridian, approximate elevation 2,950 feet;

Thence on an approximate forward bearing of N. 3° E., to a summit of Twelvemile Mountain located in the northwesterly portion of section 20, T. 27 N., R. 13 W., Fairbanks Meridian, approximate elevation 3,100 feet;

Thence on an approximate forward bearing of N. 60° E., to the summit of Twelvemile Mountain located in the northerly portion of section 20, T. 27 N., R. 13 W., Fairbanks Meridian, approximate elevation 3,180 feet;

Thence on an approximate forward bearing of N. 36° E., to a summit of Twelvemile Mountain located in the southeasterly portion of section 17, T. 27 N., R. 13 W., Fairbanks Meridian, approximate elevation 3,100 feet;

Thence on an approximate forward bearing of N. 6° E., to the summit of a low point on Twelvemile Mountain located in the easterly portion of section 17, T. 27 N., R. 13 W., Fairbanks Meridian, approximate elevation 2,600 feet;

Thence on an approximate forward bearing of N. 48° W., to the center-north 1/16 section corner of section 17, T. 27 N., R. 13 W., Fairbanks Meridian;

Thence northerly, on the north and south centerline of section 17, to the ¼ section corner of sections 8 and 17, T. 27 N., R. 13 W., Fairbanks Meridian;

Thence westerly, between sections 8 and 17, 7 and 18, 12 and 13, to the corner of sections 11, 12, 13 and 14, T. 27 N., R. 14 W., Fairbanks Meridian;

Thence northerly, between sections 11 and 12, to the ¼ section corner of sections 11 and 12, T. 27 N., R. 14 W., Fairbanks Meridian;

Thence on an approximate forward bearing of N. 25° W., to the summit of a mountain located in the southerly portion of section 2, T. 27 N., R. 14 W., Fairbanks Meridian, approximate elevation 3,125 feet;

Thence northerly and northeasterly, along the crest of a ridge between the drainages of the North and Middle Forks of the Koyukuk River, to the summit of a mountain located in section 8, T. 30 N., R. 12 W., Fairbanks Meridian, approximate elevation 3,150 feet;

Thence on an approximate forward bearing of N. 27° E., to the ¼ section corner of sections 5 and 8, T. 30 N., R. 12 W., Fairbanks Meridian;

Thence northerly, on the north and south centerlines of sections 5 and 32, to the center ¼ section corner of section 32, T. 31 N., R. 12 W., Fairbanks Meridian;

Thence on an approximate forward bearing of N. 16° E., to the summit of a mountain located in the southerly portion of section 29, T. 31 N., R. 12 W., Fairbanks Meridian, approximate elevation 3,020 feet;

Thence northeasterly, along the crest of a ridge between the drainages of Washington Creek, Canyon Creek, Glacier River and the middle Fork of the Koyukuk River, to the summit of a mountain located in the southerly portion of section 2, T. 31 N., R. 12 W., Fairbanks Meridian, approximate elevation 3,150 feet;

Thence on an approximate forward bearing of S. 69° E., to the junction of Hammond River and Canyon Creek located in the easterly portion of section 12, T. 31 N., R. 12 W., Fairbanks Meridian;

Thence on an approximate forward bearing of S. 82° E., to the summit of a mountain located in the easterly portion of section 7, T. 31 N., R. 11 W., Fairbanks Meridian, approximate elevation 2,738 feet;

Thence southeasterly and northerly, along the crest of a ridge, to the summit of a mountain located in the northerly portion of section 11, T. 31 N., R. 11 W., Fairbanks Meridian, approximate elevation 3,065 feet;

Thence on an approximate forward bearing of N. 32° E., to the summit of a mountain located in section 36, T. 32 N., R. 11 W., Fairbanks Meridian, approximate elevation 3,033 feet;

Thence northerly, along the crest of a ridge between the drainages of Vi Creek, Hammond River, Kalhabuk Creek and the Middle Fork of the Koyukuk River, to the northerly point of the crest of a ridge located in section 5, T. 33 N., R. 10 W., Fairbanks Meridian, approximate elevation 4,100 feet;

Thence on an approximate forward bearing of N. 2° W., on a line passing at midpoint between two lakes in section 32, to the crest of a ridge located near the center of section 29, T. 34 N., R. 10 W., Fairbanks Meridian, approximate elevation 3,200 feet;

Thence northwesterly, northerly and northeasterly along the crest of a ridge between drainages of Dietrich and Hammond Rivers, to the summit of a mountain located in the northwesterly portion of section 31, T. 35 N., R. 10 W., Fairbanks Meridian, approximate elevation 3,110 feet;

Thence on an approximate forward bearing of N. 9° E., to the summit of a mountain located in sections 18 and 19, T. 35 N., R. 10 W., Fairbanks Meridian, approximate elevation 4,010 feet;

Thence northerly, along the crest of a ridge between the Dietrich River drainage and Big Jim and Trembley Creeks, to the summit of a mountain located in the southwesterly portion of section 29, T. 36 N., R. 10 W., Fairbanks Meridian, approximate elevation 4,130 feet;

Thence on an approximate forward bearing of N. 8° E., to the summit of a mountain located near the center of section 17, T. 36 N., R. 10 W., Fairbanks Meridian, approximate elevation 4,230 feet;

Thence northerly, along the crest of a ridge between the drainages of Dietrich River and Kuyuktuvuk Creek, to a point of intersection with the Continental Divide, located near the center of section 31, T. 15 S., R. 10 E., Umiat Meridian, approximate elevation 6,000 feet;

Thence southwesterly, along the Continental Divide, along a common boundary with Gates of the Arctic National Park (Unit Number 1) and National Preserve (Unit Number 2), to a point on a ridge where the Continental Divide bears southerly, located in the northerly portion of section 2, T. 16 S., R. 9 E., Umiat Meridian, approximate elevation 6,300;

Thence northwesterly, along the crest of a ridge, to a point between sections 12 and 13, T. 15 S., R. 8 E., Umiat Meridian, approximate elevation 4,650 feet;

Thence on an approximate forward bearing of N. 65° W., to the most southerly point on the shore of an unnamed lake located in the Oolah Valley in section 11, T. 15 S., R. 8 E., Umiat Meridian;

Thence on an approximate forward bearing of N. 59° W., to the summit of a mountain located in section 4, T. 15 S., R. 8 E., Umiat Meridian, approximate elevation 6,323 feet;

Thence northwesterly, along the crest of a ridge between the drainages of Itkillik and Nanushuk Rivers, to the summit of a mountain located near the center of section 26, T. 14 S., R. 6 E., Umiat Meridian, approximate elevation 7,118 feet;

Thence on an approximate forward bearing of N. 70° W., to an easterly summit of Marshmallow Mountain located in the easterly portion of section 20, T. 14 S., R. 6 E., Umiat Meridian, approximate elevation 6,570 feet;

Thence westerly, along the crest of Marshmallow Mountain, to a westerly summit of Marshmallow Mountain located in the northerly portion of section 24, T. 14 S., R. 5 E., Umiat Meridian, approximate elevation 6,972 feet;

Thence on an approximate forward bearing of S. 71° W., to the easterly point of the summit of a mountain located in the northerly portion of section 28, T. 14 S., R. 5 E., Umiat Meridian, approximate elevation 6,500 feet;

Thence southwesterly, northwesterly, and northeasterly, along the crest of a ridge between the Alapah Creek, Anaktuvuk River, Itikmalakpak Creek and the Kayak Creek drainages and northwesterly on a spur ridge, to a point between sections 1 and 36, Tps. 13 and 14 S., R. 4 E., Umiat Meridian;

‸Thence westerly, departing from the common boundary with Gates of the Arctic National Preserve (Unit Number 2) and continuing along the common boundary with the National Park (Unit Number 1), between Tps. 13 and 14 S., to the corner of sections 4, 5, 32 and 33, Tps. 13 and 14 S., R. 3 E., Umiat Meridian;

‸Thence southerly, departing from the common boundary with Gates of the Arctic National Park (Unit Number 1), between sections 4 and 5, 8 and 9, 16 and 17, 20 and 21, 28 and 29, to the corner of sections 28, 29, 32 and 33, T. 14 S., R. 3 E., Umiat Meridian;

‸Thence westerly, between sections 29 and 32, to the corner of sections 29, 30, 31 and 32, T. 14 S., R. 3 E., Umiat Meridian;

‸Thence southerly, between sections 31 and 32, to the corner of sections 5, 6, 31 and 32, Tps. 14 and 15 S., R. 3 E., Umiat Meridian;

‸Thence westerly, between Tps. 14 and 15 S., to the corner of Tps. 14 and 15 S., Rs. 2 and 3 E., Umiat Meridian;

‸Thence southerly, between Rs. 2 and 3 E., to the corner of sections 7, 12, 13 and 18, T. 15 S., Rs. 2 and 3 E., Umiat Meridian;

‸Thence easterly, between sections 7 and 18, to the west 1/16 section corner of sections 7 and 18, T. 15 S., R. 3 E., Umiat Meridian;

‸Thence southerly, on the north and south centerline of the northwest ¼ of section 18, to the northwest 1/16 section corner of section 18, T. 15 S., R. 3 E., Umiat Meridian;

‸ Thence easterly, on the east and west centerline of the northwest ¼ of section 18, to the center-north 1/16 section corner of section 18, T. 15 S., R. 3 E., Umiat Meridian;

‸ Thence southerly, on the north and south centerline of section 18, to the center ¼ section corner of section 18, T. 15 S., R. 3 E., Umiat Meridian;

‸ Thence easterly, on the east and west centerline of section 18, to the center-east 1/16 section corner of section 18, T. 15 S., R. 3 E., Umiat Meridian;

‸ Thence southerly, on the north and south centerline of the southeast ¼ of section 18, to the southeast 1/16 section corner of section 18, T. 15 S., R. 3 E., Umiat Meridian;

‸ Thence easterly, on the east and west centerlines of the southeast ¼ of section 18, the south ½ of section 17, and the south ½ of section 16, to the southeast 1/16 section corner of section 16, T. 15 S., R. 3 E., Umiat Meridian;

‸ Thence southerly, on the north and south centerline of the southeast ¼ of section 16, to the east 1/16 section corner of sections 16 and 21, T. 15 S., R. 3 E., Umiat Meridian;

‸ Thence easterly, between sections 16 and 21, 15 and 22, to the west 1/16 section corner of sections 15 and 22, T. 15 S., R. 3 E., Umiat Meridian;

‸ Thence southerly, on the north and south centerline of the northwest ¼ of section 22, to the northwest 1/16 section corner of section 22, T. 15 S., R. 3 E., Umiat Meridian;

‸ Thence easterly, on the east and west centerline of the northwest ¼ of section 22, to the center-north 1/16 section corner of section 22, T. 15 S., R. 3 E., Umiat Meridian;

‸ Thence southerly, on the north and south centerline of section 22, to the center ¼ section corner of section 22, T. 15 S., R. 3 E., Umiat Meridian;

‸ Thence easterly, on the east and west centerlines of sections 22 and 23, to the center-west 1/16 section corner of section 23, T. 15 S., R. 3 E., Umiat Meridian;

‸ Thence southerly, on the north and south centerline of the southwest ¼ of section 23, to the southwest 1/16 section corner of section 23, T. 15 S., R. 3 E., Umiat Meridian;

‸ Thence easterly, on the east and west centerline of the south ½ of section 23, to the southeast 1/16 section corner of section 23, T. 15 S., R. 3 E., Umiat Meridian;

‸ Thence southerly, on the north and south centerline of the southeast ¼ of section 23, to the east 1/16 section corner of sections 23 and 26, T. 15 S., R. 3 E., Umiat Meridian;

‸ Thence easterly, between sections 23 and 26, 24 and 25, to the ¼ section corner of sections 24 and 25, T. 15 S., R. 3 E., Umiat Meridian;

‸ Thence northerly, on the north and south centerline of section 24, to the center-south 1/16 section corner of section 24, T. 15 S., R. 3 E., Umiat Meridian;

‸ Thence easterly, on the east and west centerline of the southeast ¼ of section 24, to the south 1/16 section corner of sections 19 and 24, T. 15 S., Rs. 3 and 4 E., Umiat Meridian;

‸ Thence northerly, between Rs. 3 and 4 E., to the ¼ section corner of sections 19 and 24, T. 15 S., Rs. 3 and 4 E., Umiat Meridian;

‸ Thence easterly, on the east and west centerline of section 19, to the center ¼ section corner of section 19, T. 15 S., R. 4 E., Umiat Meridian;

‸ Thence northerly, on the north and south centerline of section 19, to the ¼ section corner of sections 18 and 19, T. 15 S., R. 4 E., Umiat Meridian;

‸ Thence easterly, between sections 18 and 19, 17 and 20, 16 and 21, 15 and 22, 14 and 23, 13 and 24, to the corner of sections 13, 18, 19 and 24, T. 15 S., Rs. 4 and 5 E., Umiat Meridian;

‸ Thence southerly, between Rs. 4 and 5 E., to the south 1/16 section corner of sections 19 and 24, T. 15 S., Rs. 4 and 5 E., Umiat Meridian;

‸ Thence easterly, on the east and west centerline of the southwest ¼ of section 19, to the center-south 1/16 section corner of section 19, T. 15 S., R. 5 E., Umiat Meridian;

‸ Thence southerly, on the north and south centerline of section 19, to the ¼ section corner of sections 19 and 30, T. 15 S., R. 5 E., Umiat Meridian;

‸ Thence easterly, between sections 19 and 30, 20 and 29, 21 and 28, to the west 1/16 section corner of sections 21 and 28, T. 15 S., R. 5 E., Umiat Meridian;

‸ Thence southerly, on the north and south centerline of the northwest ¼ of section 28, to the center-west 1/16 section corner of section 28, T. 15 S., R. 5 E., Umiat Meridian;

‸ Thence easterly, on the the east and west centerline of section 28, to the center ¼ section corner of section 28, T. 15 S., R. 5 E., Umiat Meridian;

‸ Thence southerly, on the north and south centerline of section 28, to the center-south 1/16 section corner of section 28, T. 15 S., R. 5 E., Umiat Meridian;

‸ Thence easterly, on the centerlines of the southeast ¼ of section 28, and the south ½ of section 27, to the south 1/16 section corner of sections 26 and 27, T. 15 S., R. 5 E., Umiat Meridian;

‸ Thence southerly, between sections 26 and 27, 34 and 35, to the south 1/16 section corner of sections 34 and 35, T. 15 S., R. 5 E., Umiat Meridian;

‸ Thence westerly, on the east and west centerline of the southeast ¼ of section 34, to the southeast 1/16 section corner of section 34, T. 15 S., R. 5 E., Umiat Meridian;

‸ Thence southerly, on the north and south centerlines of the southeast ¼ of section 34, and the northeast ¼ of section 3, to the northeast 1/16 section corner of section 3, T. 16 S., R. 5 E., Umiat Meridian;

‸ Thence westerly, on the east and west centerline of the northeast ¼ section 3, to the center-north 1/16 section corner of section 3, T. 16 S., R. 5 E., Umiat Meridian;

‸ Thence southerly, on the north and south centerlines of sections 3 and 10, to the ¼ section corner of sections 10 and 15, T. 16 S., R. 5 E., Umiat Meridian;

‸ Thence westerly, between sections 10 and 15, 9 and 16, 8 and 17, 7 and 18, to the corner of sections 7, 12, 13 and 18, T. 16 S., Rs. 4 and 5 E., Umiat Meridian;

‸ Thence southerly, between Rs. 4 and 5 E., to the corner of sections 13, 18, 19 and 24, T. 16 S., Rs. 4 and 5 E., Umiat Meridian;

‸ Thence westerly, between sections 13 and 24, 14 and 23, 15 and 22, 16 and 21, 17 and 20, 18 and 19, to the corner of sections 13, 18, 19 and 24, T. 16 S., Rs. 3 and 4 E., Umiat Meridian;

Thence southerly, between Rs. 3 and 4 E., to the corner of sections 25, 30, 31 and 36, T. 16 S., Rs. 3 and 4 E., Umiat Meridian;

Thence westerly, between sections 25 and 36, 26 and 35, 27 and 34, 28 and 33, 29 and 32, 30 and 31, to the corner of sections 25, 30, 31 and 36, T. 16 S., Rs. 2 and 3 E., Umiat Meridian;

‸ Thence southerly, between Rs. 2 and 3 E., to the corner of Tps. 16 and 17 S., Rs. 2 and 3 E., Umiat Meridian;

‸ Thence westerly, between Tps. 16 and 17 S., to the corner of Tps. 16 and 17 S., Rs. 1 and 2 E., Umiat Meridian;

Thence northerly, between Rs. 1 and 2 E., to the corner of sections 1, 6, 7 and 12, T. 16 S., Rs. 1 and 2 E., Umiat Meridian;

Thence westerly, between sections 1 and 12, 2 and 11, to the corner of sections 2, 3, 10 and 11, T. 16 S., R. 1 E., Umiat Meridian;

Thence southerly, between sections 10 and 11, to the corner of sections 10, 11, 14 and 15, T. 16 S., R. 1 E., Umiat Meridian;

Thence westerly, between sections 10 and 15, to the corner of sections 9, 10, 15 and 16, T. 16 S., R. 1 E., Umiat Meridian;

Thence southerly, between sections 15 and 16, 21 and 22, to the corner of sections 21, 22, 27 and 28, T. 16 S., R. 1 E., Umiat Meridian;

Thence westerly, between sections 21 and 28, to the corner of sections 20, 21, 28 and 29, T. 16 S., R. 1 E., Umiat Meridian;

Thence northerly, between sections 20 and 21, to the corner of sections 16, 17, 20 and 21, T. 16 S., R. 1 E., Umiat Meridian;

Thence westerly, between sections 17 and 20, to the corner of sections 17, 18, 19 and 20, T. 16 S., R. 1 E., Umiat Meridian;

‸ Thence southerly, between sections 19 and 20, 29 and 30, 31 and 32 to the corner of sections 5, 6, 31 and 32, Tps. 16 and 17 S., R. 1 E., Umiat Meridian;

‸ Thence westerly, between Tps. 16 and 17 S., to the corner of Tps. 16 and 17 S., Rs. 1 E. and 1 W., Umiat Meridian;

‸ Thence northerly, between Rs. 1 E. and 1 W., to the corner of sections 25, 30, 31 and 36, T. 16 S., Rs. 1 E. and 1 W., Umiat Meridian;

Thence westerly, between sections 25 and 36, to the corner of sections 25, 26, 35 and 36, T. 16 S., R. 1 W., Umiat Meridian;

Thence southerly, between sections 35 and 36, to the corner of sections 1, 2, 35 and 36, Tps. 16 and 17 S., R. 1 W., Umiat Meridian;

Thence westerly, between Tps. 16 and 17 S., to the corner of sections 2, 3, 34 and 35, Tps. 16 and 17 S., R. 1 W., Umiat Meridian;

Thence southerly, between sections 2 and 3, to the south corner of sections 2 and 3, on the boundary of the Umiat Meridian, T. 17 S., R. 1 W.;

Thence westerly, between the Umiat and Fairbanks Meridians, to the south corner of sections 4 and 5, T. 17 S., R. 1 W., Umiat Meridian;

Thence northerly, between sections 4 and 5, 32 and 33, to the corner of sections 28, 29, 32 and 33, T. 16 S., R. 1 W., Umiat Meridian;

‸ Thence westerly, between sections 29 and 32, 30 and 31, 25 and 36, 26 and 35, to the corner of sections 26, 27, 34 and 35, T. 16 S., R. 2 W., Umiat Meridian;

‸ Thence southerly, between sections 34 and 35, to the corner of sections 2, 3, 34 and 35, Tps. 16 and 17 S., R. 2 W., Umiat Meridian;

‸Thence westerly, between Tps. 16 and 17 S., to the corner of sections 1, 2, 35 and 36, Tps. 16 and 17 S., R. 3 W., Umiat Meridian;

‸Thence northerly, between sections 35 and 36, 25 and 26, 23 and 24, 13 and 14, 11 and 12, to the corner of sections 1, 2, 11 and 12, T. 16 S., R. 3 W., Umiat Meridian;

‸Thence easterly, between sections 1 and 12, to the corner of sections 1, 6, 7 and 12, T. 16 S., Rs. 2 and 3 W., Umiat Meridian;

‸Thence southerly, between Rs. 2 and 3 W., to the corner of sections 13, 18, 19 and 24, T. 16 S., Rs. 2 and 3 W., Umiat Meridian;

‸Thence easterly, between sections 18 and 19, to the corner of sections 17, 18, 19 and 20, T. 16 S., R. 2 W., Umiat Meridian;

‸Thence southerly, between sections 19 and 20, to the 1/4 section corner of sections 19 and 20, T. 16 S., R. 2 W., Umiat Meridian;

‸Thence easterly, on the east and west centerlines of sections 20, 21, 22, 23 and 24, to the center 1/4 section corner of section 24, T. 16 S., R. 2 W., Umiat Meridian;

‸Thence northerly, on the north and south centerline of section 24, to the 1/4 section corner of sections 13 and 24, T. 16 S., R. 2 W., Umiat Meridian;

‸Thence easterly, between sections 13 and 24, to the corner of sections 13, 18, 19 and 24, T. 16 S., Rs. 1 and 2 W., Umiat Meridian;

‸Thence northerly, between Rs. 1 and 2 W., to the corner of sections 1, 6, 7 and 12, T. 16 S., Rs. 1 and 2 W., Umiat Meridian;

‸Thence westerly, between sections 1 and 12, 2 and 11, to the corner of sections 2, 3, 10 and 11, T. 16 S., R. 2 W., Umiat Meridian;

‸Thence northerly, between sections 2 and 3, 34 and 35, to the corner of sections 26, 27, 34 and 35, T. 15 S., R. 2 W., Umiat Meridian;

‸Thence easterly, between sections 26 and 35, 25 and 36, to the corner of sections 25, 30, 31 and 36, T. 15 S., Rs. 1 and 2 W., Umiat Meridian;

‸Thence southerly, between Rs. 1 and 2 W., to the 1/4 section corner of sections 31 and 36, T. 15 S., Rs. 1 and 2 W., Umiat Meridian;

‸Thence easterly, on the east and west centerlines of sections 31, 32, 33 and 34, to the 1/4 section corner of sections 34 and 35, T. 15 S., R. 1 W., Umiat Meridian;

‸Thence northerly, between sections 34 and 35, 26 and 27, to the corner of sections 22, 23, 26 and 27, T. 15 S., R. 1 W., Umiat Meridian;

Thence westerly, between sections 22 and 27, 21 and 28, to the corner of sections 20, 21, 28 and 29, T. 15 S., R. 1 W., Umiat Meridian;

Thence northerly, between sections 20 and 21, to the corner of sections 16, 17, 20 and 21, T. 15 S., R. 1 W., Umiat Meridian;

‸Thence westerly, between sections 17 and 20, 18 and 19, 13 and 24, to the corner of sections 13, 14, 23 and 24, T. 15 S., R. 2 W., Umiat Meridian;

‸Thence northerly, between sections 13 and 14, to the corner of sections 11, 12, 13 and 14, T. 15 S., R. 2 W., Umiat Meridian;

‸Thence westerly, between sections 11 and 14, 10 and 15, 9 and 16, 8 and 17, to the corner of sections 7, 8, 17 and 18, T. 15 S., R. 2 W., Umiat Meridian;

‸Thence northerly, between sections 7 and 8, to the corner of sections 5, 6, 7 and 8, T. 15 S., R. 2 W., Umiat Meridian;

‸Thence westerly, between sections 6 and 7, to the corner of sections 1, 6, 7 and 12, T. 15 S., Rs. 2 and 3 W., Umiat Meridian;

‸Thence northerly, between Rs. 2 and 3 W., to the corner of Tps. 14 and 15 S., Rs. 2 and 3 W., Umiat Meridian;

‸Thence westerly, between Tps. 14 and 15 S., to the corner of sections 4, 5, 32 and 33, Tps. 14 and 15 S., R. 3 W., Umiat Meridian;

‸Thence southerly, between sections 4 and 5, to the 1/4 section corner of sections 4 and 5, T. 15 S., R. 3 W., Umiat Meridian;

‸Thence westerly, on the east and west centerlines of sections 5, 6, 1 and 2, to the 1/4 section corner of sections 2 and 3, T. 15 S., R. 4 W., Umiat Meridian;

‸Thence northerly, between sections 2 and 3, to the corner of sections 2, 3, 34 and 35, Tps. 14 and 15 S., R. 4 W., Umiat Meridian;

‸Thence westerly, between Tps. 14 and 15 S., to the corner of sections 3, 4, 33 and 34, Tps. 14 and 15 S., R. 4 W., Umiat Meridian;

‸Thence northerly, between sections 33 and 34, 27 and 28, 21 and 22, to the corner of sections 15, 16, 21 and 22, T. 14 S., R. 4 W., Umiat Meridian;

‸Thence easterly, between sections 15 and 22, to the corner of sections 14, 15, 22 and 23, T. 14 S., R. 4 W., Umiat Meridian;

‸Thence northerly, between sections 14 and 15, 10 and 11, to the corner of sections 2, 3, 10 and 11, T. 14 S., R. 4 W., Umiat Meridian;

‸Thence easterly, between sections 2 and 11, to the corner of sections 1, 2, 11 and 12, T. 14 S., R. 4 W., Umiat Meridian;

‸Thence northerly, between sections 1 and 2, to the corner of sections 1, 2, 35 and 36, Tps. 13 and 14 S., R. 4 W., Umiat Meridian;

‸Thence easterly, between Tps. 13 and 14 S., to the east 1/16 section corner of sections 1 and 36, Tps. 13 and 14 S., R. 4 W., Umiat Meridian;

‸Thence northerly, on the north and south centerline of the east 1/2 of section 36, to the east 1/16 section corner of sections 25 and 36, T. 13 S., R. 4 W., Umiat Meridian;

‸Thence easterly, between sections 25 and 36, to the corner of sections 25, 30, 31 and 36, T. 13 S., Rs. 3 and 4 W., Umiat Meridian;

‸Thence northerly, between Rs. 3 and 4 W., to the north corner of T. 13 S., Rs. 3 and 4 W., Umiat Meridian;

‸Thence westerly, along the Third Standard Parallel South, along a common boundary with Gates of the Arctic National Park (Unit Number 1), to the south corner of sections 34 and 35, T. 12 S., R. 4 W., Umiat Meridian;

Thence northerly, between sections 34 and 35, 26 and 27, 22 and 23, to the corner of sections 14, 15, 22 and 23, T. 12 S., R. 4 W., Umiat Meridian;

Thence westerly, between sections 15 and 22, 16 and 21, 17 and 20, 18 and 19, to the corner of sections 13, 18, 19 and 24, T. 12 S., Rs. 4 and 5 W., Umiat Meridian;

Thence northerly, between Rs. 4 and 5 W., to the corner of sections 13, 18, 19 and 24, T. 11 S., Rs. 4 and 5 W., Umiat Meridian;

Thence westerly, between sections 13 and 24, 14 and 23, 15 and 22, 16 and 21, 17 and 20, 18 and 19, 13 and 24, 14 and 23, 15 and 22, 16 and 21, 17 and 20, 18 and 19, 13 and 24, 14 and 23, 15 and 22, to the corner of sections 15, 16, 21 and 22, T. 11 S., R. 7 W., Umiat Meridian;

Thence southerly, between sections 21 and 22, 27 and 28, 33 and 34, to the corner of sections 3, 4, 33 and 34, Tps. 11 and 12 S., R. 7 W., Umiat Meridian;

Thence westerly, between Tps. 11 and 12 S., to the corner of Tps. 11 and 12 S., Rs. 7 and 8 W., Umiat Meridian;

Thence southerly, between Rs. 7 and 8 W., to the corner of sections 19, 24, 25 and 30, T. 12 S., Rs. 7 and 8 W., Umiat Meridian;

Thence westerly, between sections 24 and 25, 23 and 26, 22 and 27, 21 and 28, 20 and 29, 19 and 30, 24 and 25, 23 and 26, 22 and 27, 21 and 28, 20 and 29, 19 and 30, 24 and 25, 23 and 26, 22 and 27, 21 and 28, 20 and 29, 19 and 30, to the corner of sections 19, 24, 25 and 30, T. 12 S., Rs. 10 and 11 W., Umiat Meridian;

Thence southerly, between Rs. 10 and 11 W., to the south corner of T. 12 S., Rs. 10 and 11 W., on the boundary of the Umiat Meridian;

Thence westerly, between the Umiat and Kateel River Meridians, to the north corner of T. 34 N., Rs. 18 and 19 E., Kateel River Meridian;

‸Thence southerly, between Rs. 18 and 19 E., to the 1/4> section corner of sections 7 and 12, T. 34 N., Rs. 18 and 19 E., Kateel River Meridian;

‸Thence westerly, on the east and west centerline of section 12, to the center-west 1/16 section corner of section 12, T. 34 N., R. 18 E. Kateel River Meridian;

‸Thence northerly, on the north and south centerline of the northwest 1/4 of section 12, to the north corner of lots 3 and 4 of section 12, T. 34 N., R. 18 E., on the boundary of the Kateel River Meridian;

‸Thence westerly, between Umiat and Kateel River Meridians, to the south corner of sections 25 and 26, T. 12 S., R. 12 W., Umiat Meridian;

‸Thence northerly, between sections 25 and 26, to the corner of sections 23, 24, 25 and 26, T. 12 S., R. 12 W., Umiat Meridian;

‸Thence westerly, between sections 23 and 26, to the 1/4 section corner of sections 23 and 26, T. 12 S., R. 12 W., Umiat Meridian;

‸Thence northerly, on the north and south centerline of section 23, to the center 1/4 section corner of section 23, T. 12 S., R. 12 W., Umiat Meridian;

‸Thence westerly, on the east and west centerlines of sections 23 and 22, to the 1/4 section corner of sections 21 and 22, T. 12 S., R. 12 W., Umiat Meridian;

‸Thence southerly, between sections 21 and 22, 27 and 28, to the south corner of sections 27 and 28, T. 12 S., R. 12 W., on the boundary of the Umiat Meridian;

‸Thence westerly, between the Kateel River and Umiat Meridians, to the north corner of lots 2 and 3 of section 9, T. 34 N., R. 18 N., Kateel River Meridian;

‸Thence southerly, on the north and south centerline of section 9, to the center 1/4 section corner of section 9, T. 34 N., R. 18 E., Kateel River Meridian;

‸Thence easterly, on the east and west centerline of section 9, to the 1/4 section corner of sections 9 and 10, T. 34 N., R. 18 E., Kateel River Meridian;

‸Thence southerly, between sections 9 and 10, 15 and 16, to the 1/4 section corner of sections 15 and 16, T. 34 N., R. 18 E., Kateel River Meridian;

‸Thence easterly, on the east and west centerline of section 15, to the center 1/4 section corner of section 15, T. 34 N., R. 18 E., Kateel River Meridian;

‸Thence southerly, on the north and south centerline of section 15, to the 1/4 corner of sections 15 and 22, T. 34 N., R. 18 E., Kateel River Meridian;

‸Thence easterly, between sections 15 and 22, 14 and 23, to the 1/4 section corner of sections 14 and 23, T. 34 N., R. 18 E., Kateel River Meridian;

‸Thence southerly, on the north and south centerline of section 23, to the 1/4 section corner of sections 23 and 26, T. 34 N., R. 18 E., Kateel River Meridian;

‸Thence westerly, between sections 23 and 26, 22 and 27, 21 and 28, 20 and 29, 19 and 30, 24 and 25, 23 and 26, 22 and 27, 21 and 28, 20 and 29, 19 and 30, 24 and 25, 23 and 26, 22 and 27, 21 and 28, 20 and 29, 19 and 30, to the corner of sections 19, 24, 25 and 30, T. 34 N., Rs. 15 and 16 E., Kateel River Meridian;

Thence northerly, between Rs. 15 and 16 E., to the north corner of T. 34 N., Rs. 15 and 16 E., on the boundary of the Kateel River Meridian;

Thence westerly, between the Kateel River and Umiat Meridians, to a point of intersection between the western portion of section 10, T. 34 N., R. 14 E., Kateel River Meridian and section 27, T. 12 S., R. 16 W., Umiat Meridian, with a line projected due north of a peak located in the western portion of section 26, T. 30 N., R. 14 E., Kateel River Meridian, approximate elevation 4,640 feet;

Thence due south to a peak located along the crest of a divide between the drainages of the Nigu and Noatak Rivers in the western portion of section 26, T. 30 N., R. 14 E., Kateel River Meridian, approximate elevation 4,640 feet;

Thence westerly, northerly and northwesterly, along the crest of a divide between the drainages of the Nigu and Noatak Rivers to a summit of a mountain located on a ridge at the junction with a spur ridge located in section 3, T. 30 N., R. 13 E., Kateel River Meridian, approximate elevation 3,250 feet;

Thence southwesterly and westerly, along the crest of a ridge between the drainages of Midas Creek and Mountain Creek, to the summit of a mountain located in section 21, T. 30 N., R. 12 E., Kateel River Meridian, approximate elevation 4,021 feet;

Thence on an approximate forward bearing of S. 87° W., to the summit of a hill located in section 24, T. 30 N., R. 11 E., Kateel River Meridian, approximate elevation 3,473 feet;

Thence northwesterly, along the crest of a ridge to the summit of a mountain located in sections 14 and 15, T. 30 N., R. 11 E., Kateel River Meridian, approximate elevation 4,100 feet;

Thence on an approximate forward bearing of S. 28° W., to the summit of a mountain located in section 22, T. 30 N., R. 11 E., Kateel River Meridian, approximate elevation 3,202 feet;

Thence southwesterly, along the crest of a ridge between Douglas Creek and a tributary of the Noatak River, to the summit of a mountain, located in sections 12 and 13, T. 29 N., R. 10 E., Kateel River Meridian, approximate elevation 3,657 feet;

Thence due south, to a point on the right bank of Douglas Creek located in section 24, T. 29 N., R. 10 E., Kateel River Meridian;

Thence southerly, along the right bank of Douglas Creek, to a point on the right bank of Douglas Creek at the junction of the Noatak River and Douglas Creek located in the northern portion of section 2, T. 28 N., R. 10 E., Kateel River Meridian;

Thence on an approximate forward bearing of S. 24° W., to the summit of a mountain located in section 22, T. 28 N., R. 10 E., Kateel River Meridian, approximate elevation 3,439 feet;

Thence on an approximate forward bearing of S. 51° W., to the summit of a small mountain located in sections 28 and 29, T. 28 N., R. 10 E., Kateel River Meridian, approximate elevation 2,441 feet;

Thence easterly, southerly and westerly, along the divide between the drainages of Kavachurak Creek and Tunukuchiak Creek and Ambler River, to the summit of a mountain located in section 22, T. 26 N., R. 9 E., Kateel River Meridian, approximate elevation 4,298 feet;

Thence northerly, along the crest of the spur ridge to the summit of a mountain located in section 15, T. 26 N., R. 9 E., Kateel River Meridian, approximate elevation 3,980 feet;

Thence on an approximate forward bearing of N. 37° W., to the summit of a mountain located in section 5, T. 26 N., R. 9 E., Kateel River Meridian, approximate elevation 4,625 feet;

Thence southwesterly, along the divide between the drainages of the Ambler and Noatak Rivers, to the summit of a mountain located in sections 23 and 24, T. 26 N., R. 8 E., Kateel River Meridian, approximate elevation 4,508 feet;

Thence on an approximate forward bearing of S. 11° W., to the summit of a mountain located in section 35, T. 26 N., R. 8 E., Kateel River Meridian, approximate elevation 4,720 feet;

Thence easterly, southerly, easterly and southerly along the divide between the Ambler and Imelyak Rivers to the summit of a ridge located in the southern half of section 19, T. 25 N., R. 9 E., Kateel River Meridian, approximate elevation 3,600 feet;

Thence southerly, along the divide between tributaries of the Ambler River, to a point between sections 9 and 16, T. 24 N., R. 9 E., Kateel River Meridian, approximate elevation 2,800 feet;

Thence easterly, between sections 9 and 16, 10 and 15, 11 and 14, to the crest of a ridge between sections 11 and 14, T. 24 N., R. 9 E., Kateel River Meridian, approximate elevation 2,600 feet;

Thence northeasterly, along the crest of a ridge between the drainages of tributaries of the Ambler River to the summit of a mountain located in the northwesterly portion of section 4, T. 24 N., R. 10 E., Kateel River Meridian, approximate elevation 3,609 feet;

Thence on an approximate forward bearing of east, to the summit of a mountain located in the northwesterly portion of section 2, T. 24 N., R. 10 E., Kateel River Meridian, approximate elevation 4,499 feet;

Thence northeasterly, along the crest of a ridge between the drainages of Ulaneak Creek, Ambler and Ipnelivik Rivers, to the summit of a mountain located in section 27, T. 25 N., R. 11 E., Kateel River Meridian, approximate elevation 5,040 feet;

Thence on an approximate forward bearing of S. 28° E., to the summit of a mountain located in sections 34 and 35, T. 25 N., R. 11 E., Kateel River Meridian, approximate elevation 4,600 feet;

Thence southerly, along the crest of a ridge between the drainages of Ipnelivik River and Ulaneak Creek, to the summit of a mountain located in sections 25 and 26, T. 24 N., R. 11 E., Kateel River Meridian, approximate elevation 4,600 feet;

Thence on an approximate forward bearing of S. 60° E., to the summit of a mountain located in section 31, T. 24 N., R. 12 E., Kateel River Meridian, approximate elevation 5,076 feet;

Thence southerly, easterly and northeasterly, along the crest of a ridge, to the summit of a mountain between sections 5 and 32, Tps. 23 and 24 N., R. 12 E., Kateel River Meridian, approximate elevation 4,517 feet;

Thence easterly, between Tps. 23 and 24 N., to the summit of a mountain between sections 4 and 33, Tps. 23 and 24 N., R. 12 E., Kateel River Meridian, approximate elevation 4,926 feet;

Thence southerly, along the crest of a ridge between the drainages of Kogoluktuk River, to the summit of a mountain located in sections 34 and 35, T. 23 N., R. 12 E., Kateel River Meridian, approximate elevation 4,160 feet;

Thence on an approximate forward bearing of S. 20° E., to the summit of a mountain located in section 11, T. 22 N., R. 12 E., Kateel River Meridian, approximate elevation 3,292 feet;

Thence southerly, easterly and southeasterly, along the crest of a ridge between the drainages of Kogoluktuk River and Ivik Creek, to a point between sections 2 and 35, Tps. 21 and 22 N., R. 13 E., Kateel River Meridian;

Thence easterly, between Tps. 21 and 22 N., to the corner of Tps. 21 and 22 N., Rs. 18 and 19 E., Kateel River Meridian;

Thence southerly, between Rs. 18 and 19 E., to the south corner of T. 21 N., Rs. 18 and 19 E., Kateel River Meridian;

Thence westerly, along the Fifth Standard Parallel North, to the north corner of T. 20 N., Rs. 18 and 19 E., Kateel River Meridian;

Thence southerly, between Rs. 18 and 19 E., to the corner of sections 19, 24, 25 and 30, T. 20 N., Rs. 18 and 19 E., Kateel River Meridian, the place of beginning.

(2) Unit Number 2

Beginning at the corner of sections 13, 18, 19 and 24, T. 11 S., Rs. 2 and 3 W., Umiat Meridian;

Thence northerly, between Rs. 2 and 3 W., along a common boundary with Gates of the Arctic National Park (Unit Number 2), to the corner of Tps. 9 and 10 S., Rs. 2 and 3 W., Umiat Meridian;

Thence westerly, between Tps. 9 and 10 S., to the corner of Tps. 9 and 10 S., Rs. 3 and 4 W., Umiat Meridian;

Thence northerly, between Rs. 3 and 4 W., to the corner of sections 13, 18, 19 and 24, T. 9 S., Rs. 3 and 4 W., Umiat Meridian;

Thence westerly, between sections 13 and 24, 14 and 23, 15 and 22, 16 and 21, 17 and 20, 18 and 19, 13 and 24, 14 and 23, 15 and 22, to the corner of sections 15, 16, 21 and 22, T. 9 S., R. 5 W., Umiat Meridian;

Thence southerly, between sections 21 and 22, 27 and 28, 33 and 34, 3 and 4, 9 and 10, 15 and 16, to the corner of sections 15, 16, 21 and 22, T. 10 S., R. 5 W., Umiat Meridian;

Thence easterly, between sections 15 and 22, 14 and 23, 13 and 24, to the corner of sections 13, 18, 19 and 24, T. 10 S., Rs. 4 and 5 W., Umiat Meridian;

Thence southerly, between Rs. 4 and 5 W., to the corner of Tps. 10 and 11 S., Rs. 4 and 5 W., Umiat Meridian;

Thence easterly, between Tps. 10 and 11 S., to the corner of sections 4, 5, 32 and 33, Tps. 10 and 11 S., R. 4 W., Umiat Meridian;

Thence southerly, between sections 4 and 5, 8 and 9, 16 and 17, to the corner of sections 16, 17, 20 and 21, T. 11 S., R. 4 W., Umiat Meridian;

Thence easterly, between sections 16 and 21, 15 and 22, 14 and 23, 13 and 24, 18 and 19, 17 and 20, 16 and 21, 15 and 22, 14 and 23, 13 and 24 to the corner of sections 13, 18, 19 and 24, T. 11 S., Rs. 2 and 3 W., Umiat Meridian, the place of beginning.

(3) Unit Number 3

Beginning at the corner of sections 19, 24, 25 and 30, T. 15 S., Rs. 1 E. and 1 W., Umiat Meridian;

‸ Thence southerly, between Rs. 1 E and 1 W., to the corner of sections 25, 30, 31 and 36, T. 15 S., Rs. 1 E. and 1 W., Umiat Meridian;

‸ Thence easterly, between sections 30 and 31, 29 and 32, to the corner of sections 28, 29, 32 and 33, T. 15 S., R. 1 E., Umiat Meridian;

‸ Thence northerly, between sections 28 and 29, to the corner of sections 20, 21, 28 and 29, T. 15 S., R. 1 E., Umiat Meridian;

‸ Thence easterly, between sections 21 and 28, 22 and 27, to the corner of sections 22, 23, 26 and 27, T. 15 S., R. 1 E., Umiat Meridian;

‸ Thence northerly, between sections 22 and 23, 14 and 15, to the corner of sections 10, 11, 14 and 15, T. 15 S., R. 1 E., Umiat Meridian;

‸ Thence westerly, between sections 10 and 15, 9 and 16, to the corner of sections 8, 9, 16 and 17, T. 15 S., R. 1 E., Umiat Meridian;

‸ Thence northerly, between sections 8 and 9, to the corner of sections 4, 5, 8 and 9, T. 15 S., R. 1 E., Umiat Meridian;

‸ Thence westerly, between sections 5 and 8, 6 and 7, to the corner of sections 1, 6, 7 and 12, T. 15 S., Rs. 1 E. and 1 W., Umiat Meridian;

‸ Thence northerly, between Rs. 1 E. and 1 W., to the 1/4 section corner of sections 1 and 6, T. 15 S., Rs. 1 E. and 1 W., Umiat Meridian;

‸ Thence westerly, on the east and west centerline of section 1, to the 1/4 section corner of sections 1 and 2, T. 15 S., R. 1 W., Umiat Meridian;

‸ Thence northerly, between sections 1 and 2, 35 and 36, to the corner of sections 25, 26, 35 and 36, T. 14 S., R. 1 W., Umiat Meridian;

‸ Thence easterly, between sections 25 and 36, to the 1/4 section corner of sections 25 and 36 T. 14 S., R. 1 W., Umiat Meridian;

‸ Thence northerly, on the north and south centerline of section 25, to the center 1/4 section corner of section 25, T. 14 S., R. 1 W., Umiat Meridian;

‸ Thence easterly, on the east and west centerlines of sections 25 and 30, to the 1/4 section corner of sections 29 and 30, T. 14 S., R. 1 E., Umiat Meridian;

‸ Thence southerly, between sections 29 and 30, 31 and 32, to the 1/4 section corner of sections 31 and 32, T. 14 S., R. 1 E., Umiat Meridian;

‸ Thence easterly, on the east and west centerline of section 32, to the 1/4 section corner of sections 32 and 33, T. 14 S., R. 1 E., Umiat Meridian;

‸ Thence southerly, between sections 32 and 33, to the corner of sections 4, 5, 32 and 33, Tps. 14 and 15 S., R. 1 E., Umiat Meridian;

‸ Thence easterly, between Tps. 14 and 15 S., to the corner of sections 3, 4, 33 and 34, Tps. 14 and 15 S., R. 1 E., Umiat Meridian;

‸ Thence southerly, between sections 3 and 4, to the 1/4 section corner of sections 3 and 4, T. 15 S., R. 1 E., Umiat Meridian;

‸ Thence easterly, on the east and west centerline of section 3, to the 1/4 section corner of sections 2 and 3, T. 15 S., R. 1 E., Umiat Meridian;

‸ Thence southerly, between sections 2 and 3, to the corner of sections 2, 3, 10 and 11, T. 15 S., R. 1 E., Umiat Meridian;

‸ Thence easterly, between sections 2 and 11, 1 and 12, to the corner of sections 1, 6, 7 and 12, T. 15 S., Rs. 1 and 2 E., Umiat Meridian;

‸ Thence northerly, between Rs. 1 and 2 E., to the corner of sections 19, 24, 25 and 30, T. 14 S., Rs. 1 and 2 E., Umiat Meridian;

‸ Thence westerly, between sections 24 and 25, 23 and 26, to the corner of sections 22, 23, 26 and 27, T. 14 S., R. 1 E., Umiat Meridian;

‸ Thence northerly, between sections 22 and 23, 14 and 15, to the 1/4 section corner of sections 14 and 15, T. 14 S., R. 1 E., Umiat Meridian;

‸ Thence westerly, on the east and west centerlines of sections 15 and 16, to the 1/4 section corner of sections 16 and 17, T. 14 S., R. 1 E., Umiat Meridian;

‸ Thence northerly, between sections 16 and 17, 8 and 9, to the 1/4 section corner of sections 8 and 9, T. 14 S., R. 1 E., Umiat Meridian;

‸ Thence westerly, on the east and west centerlines of sections 8, 7, 12 and 11, to the 1/4 section corner of sections 10 and 11, T. 14 S., R. 1 W., Umiat Meridian;

‸ Thence northerly, between sections 10 and 11, to the corner of sections 2, 3, 10 and 11, T. 14 S., R. 1 W., Umiat Meridian;

‸ Thence westerly, between sections 3 and 10, 4 and 9, 5 and 8, to the west 1/16 section corner of sections 5 and 8, T. 14 S., R. 1 W., Umiat Meridian;

‸ Thence northerly, on the north and south centerline of the west ½ of section 5, to the west 1/16 section corner of sections 5 and 32, Tps. 13 and 14 S., R. 1 W., Umiat Meridian;

‸ Thence easterly, between Tps. 13 and 14 W., to the 1/4 section corner of sections 5 and 32, Tps. 13 and 14 S., R. 1 W., Umiat Meridian;

‸ Thence northerly, on the north and south centerline of section 32, to the 1/4 section corner of sections 29 and 32, T. 13 S., R. 1 W., Umiat Meridian;

‸ Thence westerly, between sections 29 and 32, 30 and 31, along a common boundary with Gates of the Arctic National Park (Unit Number 1) to the corner of sections 25, 30, 31 and 36, T. 13 S., Rs. 1 and 2 W., Umiat Meridian;

Thence northerly, between Rs. 1 and 2 W., to the north corner of T. 13 S., Rs. 1 and 2 W., Umiat Meridian;

Thence westerly, along the Third Standard Parallel South, to the south corner of T. 12 S., Rs. 1 and 2 W., Umiat Meridian;

Thence northerly, between Rs. 1 and 2 W., to the corner of sections 13, 18, 19 and 24, T. 12 S., Rs. 1 and 2 W., Umiat Meridian;

Thence westerly, between sections 13 and 24, 14 and 23, 15 and 22, 16 and 21, 17 and 20, 18 and 19, to the corner of sections 13, 18, 19 and 24, T. 12 S., Rs. 2 and 3 W., Umiat Meridian;

Thence southerly, between Rs. 2 and 3 W., to the corner of sections 25, 30, 31 and 36, T. 12 S., Rs. 2 and 3 W., Umiat Meridian;

Thence westerly, between sections 25 and 36, to the corner of sections 25, 26, 35 and 36, T. 12 S., R. 3 W., Umiat Meridian;

Thence southerly, between sections 35 and 36, to the south corner of sections 35 and 36, T. 12 S., R. 3 W., Umiat Meridian;

Thence easterly, departing from the common boundary with Gates of the Arctic National Park (Unit Number 1), along the Third Standard Parallel South, to the north corner of sections 1 and 2, T. 13 S., R. 3 W., Umiat Meridian;

Thence southerly, between sections 1 and 2, to the corner of sections 1, 2, 11 and 12, T. 13 S., R. 3 W., Umiat Meridian;

Thence westerly, between sections 2 and 11, 3 and 10, to the corner of sections 3, 4, 9 and 10, T. 13 S., R. 3 W., Umiat Meridian;

‸ Thence southerly, between sections 9 and 10, 15 and 16, 21 and 22, 27 and 28, 33 and 34, to the corner of sections 3, 4, 33 and 34, Tps. 13 and 14 S., R. 3 W., Umiat Meridian;

‸ Thence westerly, between Tps. 13 and 14 S., to the corner of sections 4, 5, 32 and 33, Tps. 13 and 14 S., R. 3 W., Umiat Meridian;

‸ Thence southerly, between sections 4 and 5, to the corner of sections 4, 5, 8 and 9, T. 14 S., R. 3 W., Umiat Meridian;

‸ Thence on an approximate forward bearing of S. 45° W., to the corner of sections 7, 8, 17 and 18, T. 14 S., R. 3 W., Umiat Meridian;

‸ Thence southerly, between sections 17 and 18, 19 and 20, to the corner of sections 19, 20, 29 and 30, T. 14 S., R. 3 W., Umiat Meridian;

Thence easterly, between sections 20 and 29, 21 and 28, 22 and 27, 23 and 26, 24 and 25, 19 and 30, 20 and 29, to the corner of sections 20, 21, 28 and 29, T. 14 S., R. 2 W., Umiat Meridian;

Thence southerly, between sections 28 and 29, 32 and 33, to the corner of sections 4, 5, 32 and 33, Tps. 14 and 15 S., R. 2 W., Umiat Meridian;

Thence easterly, between Tps. 14 and 15 S., to the corner of Tps. 14 and 15 S., Rs. 1 and 2 W., Umiat Meridian;

Thence southerly, between Rs. 1 and 2 W., to the corner of sections 1, 6, 7 and 12, T. 15 S., Rs. 1 and 2 W., Umiat Meridian;

Thence easterly, between sections 6 and 7, 5 and 8, 4 and 9, 3 and 10, to the corner of sections 2, 3, 10 and 11, T. 15 S., R. 1 W., Umiat Meridian;

Thence southerly, between sections 10 and 11, to the corner of sections 10, 11, 14 and 15, T. 15 S., R. 1 W., Umiat Meridian;

Thence easterly, between sections 11 and 14, 12 and 13, to the corner of sections 7, 12, 13 and 18, T. 15 S., Rs. 1 E. and 1 W., Umiat Meridian;

Thence southerly, between Rs. 1 E. and 1 W., to the corner of sections 19, 24, 25 and 30, T. 15 S., Rs. 1 E. and 1 W., Umiat Meridian, the place of beginning.

DATES: The effective date of this boundary revision is November 12, 1996.

Dated: November 15, 2011.
Sue E. Masica,
Regional Director, Alaska Region.

[FR Doc. 2011-32134 Filed 12-14-11; 8:45 am]

BILLING CODE 4310-HK-P